DEPARTMENT OF JUSTICE

Drug Enforcement Administration

[Docket No. DEA-372]

Exempt Chemical Preparations Under the Controlled Substances Act

AGENCY: Drug Enforcement Administration, Department of Justice.

ACTION: Order with opportunity for comment.

SUMMARY: The applications for exempt chemical preparations received by the Drug Enforcement Administration between July 28, 2020, and December 31, 2022, as listed below, were accepted for filing and have been approved or denied as indicated.

DATES: Interested persons may file written comments on this order in accordance with 21 CFR 1308.23(e). Electronic comments must be submitted, and written comments must be postmarked, on or before July 21, 2023. Commenters should be aware that the electronic Federal Docket Management System will not accept comments after 11:59 p.m. Eastern Time on the last day of the comment period.

ADDRESSES: To ensure proper handling of comments, please reference “Docket No. DEA-372” on all correspondence, including any attachments.

Electronic comments: Drug Enforcement Administration (DEA) encourages that all comments be submitted through the Federal eRulemaking Portal, which provides the ability to type short comments directly into the comment field on the web page or to attach a file for lengthier comments. Please go to http://www.regulations.gov and follow the online instructions at that site for submitting comments. Upon completion of your submission you will receive a Comment Tracking Number for your comment. Please be aware that submitted comments are not instantaneously available for public view on Regulations.gov. If you have received a comment tracking number, your comment has been successfully submitted and there is no need to resubmit the same comment.

Paper comments: Paper comments that duplicate the electronic submission are not necessary and are discouraged. Should you wish to mail a comment in lieu of an electronic comment, it should be sent via regular or express mail to: Drug Enforcement Administration, Attention: DEA Federal Register Representative/DRW, 8701 Morrissette Drive, Springfield, Virginia 22152.

FOR FURTHER INFORMATION CONTACT: Terrence L. Boos, Ph.D., Diversion Control Division, Drug Enforcement Administration; Mailing Address: 8701 Morrissette Drive, Springfield, Virginia 22152; Telephone: (571) 362-8201.

SUPPLEMENTARY INFORMATION:

Posting of Public Comments

Please note that all comments received are considered part of the public record and made available for public inspection online at http://www.regulations.gov and in the DEA's public docket. Such information includes personal identifying information (such as your name, address, etc.) voluntarily submitted by the commenter. The Freedom of Information Act applies to all comments received.

If you want to submit personal identifying information (such as your name, address, etc.) as part of your comment, but do not want it to be posted online or made available in the public docket, you must include the phrase “PERSONAL IDENTIFYING INFORMATION” in the first paragraph of your comment. You must also place all the personal identifying information you do not want posted online or made available in the public docket in the first paragraph of your comment and identify what information you want redacted.

If you want to submit confidential business information as part of your comment, but do not want it to be posted online or made available in the public docket, you must include the phrase “CONFIDENTIAL BUSINESS INFORMATION” in the first paragraph of your comment. You must also prominently identify confidential business information to be redacted within the comment.

Comments containing personal identifying information and confidential business information identified as directed above will generally be made publicly available in redacted form. If a comment has so much confidential business information that it cannot be effectively redacted, all or part of that comment may not be made publicly available. Comments posted to http://www.regulations.gov may include any personal identifying information (such as name, address, and phone number) included in the text of your electronic submission that is not identified as directed above as confidential.

An electronic copy of this document is available at http://www.regulations.gov for easy reference.

Legal Authority

Section 201 of the Controlled Substances Act (CSA) (21 U.S.C. 811) authorizes the Attorney General, by regulation, to exempt from certain provisions of the CSA certain compounds, mixtures, or preparations containing a controlled substance, if he finds that such compounds, mixtures, or preparations meet the requirements detailed in 21 U.S.C. 811(g)(3)(B).¹ The DEA regulations at 21 CFR 1308.23 and 1308.24 further detail the criteria by which the DEA Assistant Administrator may exempt a chemical preparation or mixture from certain provisions of the CSA. The Assistant Administrator may, pursuant to 21 CFR 1308.23(f), modify or revoke the criteria by which exemptions are granted and modify the scope of exemptions at any time.

¹ This authority has been delegated from the Attorney General to the DEA Administrator by 28 CFR 0.100, and subsequently redelegated to the Deputy Assistant Administrator pursuant to 28 CFR 0.104 and Section 7 of the appendix to subpart R of part 0.

Exempt Chemical Preparation Applications Submitted Between July 28, 2020, and December 31, 2022

DEA received applications between July 28, 2020, and December 31, 2022, requesting exempt chemical preparation status detailed in 21 CFR 1308.23. Pursuant to the criteria stated in 21 U.S.C. 811(g)(3)(B) and in 21 CFR 1308.23, the Assistant Administrator has found that each of the compounds, mixtures, and preparations described in Chart I below is intended for laboratory, industrial, educational, or special research purposes and not for general administration to a human being or animal and either: (1) contains no narcotic controlled substance and is packaged in such a form or concentration that the packaged quantity does not present any significant potential for abuse; or (2) contains either a narcotic or non-narcotic controlled substance and one or more adulterating or denaturing agents in such a manner, combination, quantity, proportion, or concentration that the preparation or mixture does not present any potential for abuse and, if the preparation or mixture contains a narcotic controlled substance, is formulated in such a manner that it incorporates methods of denaturing or other means so that the preparation or mixture is not liable to be abused or have ill effects, if abused, and so that the narcotic substance cannot in practice be removed.

Accordingly, pursuant to 21 U.S.C. 811(g)(3)(B), 21 CFR 1308.23, and 21 CFR 1308.24, the Assistant Administrator has determined that each of the chemical preparations or mixtures generally described in Chart I below and specifically described in the application materials received by DEA is exempt, to the extent described in 21 CFR 1308.24, from application of sections 302, 303, 305, 306, 307, 308, 309, 1002, 1003, and 1004 (21 U.S.C. 822-823, 825-829, and 952-954) of the CSA, and 21 CFR 1301.74, as of the date that was provided in the approval letters to the individual requesters.

Scope of Approval

The exemptions are applicable only to the precise preparation or mixture described in the application submitted to DEA in the form(s) listed in this order and only for those above mentioned sections of the CSA and the CFR. In accordance with 21 CFR 1308.24(h), any change in the quantitative or qualitative composition of the preparation or mixture, or change in the trade name or other designation of the preparation or mixture after the date of application requires a new application. The requirements set forth in 21 CFR 1308.24(b)-(e) apply to the exempted materials. In accordance with 21 CFR 1308.24(g), DEA may prescribe requirements other than those set forth in 21 CFR 1308.24(b)-(e) on a case-by-case basis for materials exempted in bulk quantities. Accordingly, in order to limit opportunities for diversion from the larger bulk quantities, DEA has determined that each of the exempted bulk products listed in this order may only be used in-house by the manufacturer, and may not be distributed for any purpose, or transported to other facilities.

Additional exempt chemical preparation requests received between July 28, 2020, and December 31, 2022, and not otherwise referenced in this order, may remain under consideration until DEA receives additional information required, pursuant to 21 CFR 1308.23(d), as detailed in separate correspondence to individual requesters. DEA's order on such requests will be communicated to the public in a future Federal Register publication.

DEA also notes that these exemptions are limited to exemption from only those sections of the CSA and the CFR that are specifically identified in 21 CFR 1308.24(a). All other requirements of the CSA and the CFR apply, including registration as an importer as required by 21 U.S.C. 957.

Chart I
Supplier name | Product name | Form | Application date
AAB-MLE | (AAB-MLE) Chemistry | Amber vial: 5 mL | 8/25/2022
Absolute Standards, Inc | (-)-trans-Δ9-THC acid A, 100 ug/mL, in Acetonitrile | Glass ampoule: 1 ml | 6/23/2022
Absolute Standards, Inc | (-)-trans-Δ9-THC acid A, 1000 ug/mL, in Acetonitrile | Glass ampoule: 1 ml | 6/23/2022
Absolute Standards, Inc | (-)-Δ8-THC, 100 ug/mL, in Ethanol | Glass ampoule: 1 ml | 6/23/2022
Absolute Standards, Inc | (-)-Δ8-THC, 1000 ug/mL, in Acetonitrile | Glass ampoule: 1 ml | 6/23/2022
Absolute Standards, Inc | (-)-Δ8-THC, 1000 ug/mL, in Ethanol | Glass ampoule: 1 ml | 6/23/2022
Absolute Standards, Inc | (-)-Δ9-THC—Calibration Standard, 100 ug/mL, in Ethanol | Glass ampoule: 1 ml | 6/23/2022
Absolute Standards, Inc | (-)-Δ9-THC—Performance Test HPLC-GC, 100-1000 ug/mL, in Acetonitrile | Glass ampoule: 1 ml | 6/23/2022
Absolute Standards, Inc | (-)-Δ9-THC, 100 ug/mL, in Acetonitrile | Glass ampoule: 1 ml | 6/23/2022
Absolute Standards, Inc | (-)-Δ9-THC, 1000 ug/mL, in Acetonitrile | Glass ampoule: 1 ml | 6/23/2022
Absolute Standards, Inc | (-)-Δ9-THC, 1000 ug/mL, in Ethanol | Glass ampoule: 1 ml | 6/23/2022
Absolute Standards, Inc | (+/-)-Amphetamine-D6, 100 ug/mL, in Methanol | Glass ampoule: 1 ml | 4/22/2022
Absolute Standards, Inc | 3-Methylmorphine, 1000 ug/mL, in Methanol | Glass ampoule: 1 ml | 4/22/2022
Absolute Standards, Inc | 6-Acetylcodeine, 100 ug/mL, in Acetonitrile | Glass ampoule: 1 ml | 4/22/2022
Absolute Standards, Inc | 6-Acetylmorphine, 1000 ug/mL, in Methanol | Glass ampoule: 1 ml | 4/22/2022
Absolute Standards, Inc | Amfepramone, 1000 ug/mL, in Acetonitrile:Water [1:1] | Glass ampoule: 1 ml | 4/22/2022
Absolute Standards, Inc | Anhydroecgonine methyl ester-D3, 100 ug/mL, in Acetonitrile | Glass ampoule: 1 ml | 4/22/2022
Absolute Standards, Inc | Butalbital, 100 ug/mL, in Methanol | Glass ampoule: 1 ml | 4/22/2022
Absolute Standards, Inc | Cannabinoid Calibration Mix—Acids, 100 ug/mL, in Acetonitrile (1% DIPEA & 0.05% Ascorbic acid) | Glass ampoule: 1 ml | 6/23/2022
Absolute Standards, Inc | Cannabinoid Calibration Mix—Neutrals, 100 ug/mL, in Methanol | Glass ampoule: 1 ml | 6/23/2022
Absolute Standards, Inc | Chloral hydrate, 1000 ug/mL, in Acetonitrile | Glass ampoule: 1 ml | 4/22/2022
Absolute Standards, Inc | Chloral hydrate, 2000 ug/mL, in Acetone | Glass ampoule: 1 ml | 4/22/2022
Absolute Standards, Inc | Cocaethylene, 1000 ug/mL, in Acetonitrile | Glass ampoule: 1 ml | 4/22/2022
Absolute Standards, Inc | Codeine-6-β-D-glucuronide-D3, 100 ug/mL, in Acetonitrile:Water [1:1] | Glass ampoule: 1 ml | 4/22/2022
Absolute Standards, Inc | Codeine-D3, 1000 ug/mL, in Ethanol | Glass ampoule: 1 ml | 4/22/2022
Absolute Standards, Inc | Codeine-D6, 100 ug/mL, in Methanol | Glass ampoule: 1 ml | 4/22/2022
Absolute Standards, Inc | Codeine-D6, 1000 ug/mL, in Methanol | Glass ampoule: 1 ml | 4/22/2022
Absolute Standards, Inc | CPC Custom Mix Rev. 1, Varied ug/mL, in Methanol | Glass ampoule: 1 ml | 4/22/2022
Absolute Standards, Inc | d,1-MBDB, 100 ug/mL, in Methanol | Glass ampoule: 1 ml | 4/22/2022
Absolute Standards, Inc | Dihydrocodeine, 100 ug/mL, in Methanol | Glass ampoule: 1 ml | 4/22/2022
Absolute Standards, Inc | Dihydrocodeine-6-β-D-glucuronide, 100 ug/mL, in Acetonitrile:Water [1:1] | Glass ampoule: 1 ml | 4/22/2022
Absolute Standards, Inc | Drug Calibration Standard, 100 ug/mL, in Methanol | Glass ampoule: 1 ml | 4/22/2022
Absolute Standards, Inc | EPA Method 539 Mix #1, 100 ug/mL, in Methanol | Glass ampoule: 1 ml | 4/22/2022
Absolute Standards, Inc | EPA Method 539 Mix #2, Varied ug/mL, in Methanol | Glass ampoule: 1 ml | 4/22/2022
Absolute Standards, Inc | Heroin, 100 ug/mL, in Acetonitrile | Glass ampoule: 1 ml | 4/22/2022
Absolute Standards, Inc | Heroin, 1000 ug/mL, in Acetonitrile | Glass ampoule: 1 ml | 4/22/2022
Absolute Standards, Inc | Hydrocodone-D3, 100 ug/mL, in Methanol | Glass ampoule: 1 ml | 4/22/2022
Absolute Standards, Inc | Hydromorphone-D3, 100 ug/mL, in Methanol | Glass ampoule: 1 ml | 4/22/2022
Absolute Standards, Inc | Lorazepam glucuronide, 100 ug/mL, in Acetonitrile:Water [1:1] | Glass ampoule: 1 ml | 4/22/2022
Absolute Standards, Inc | Lysergic acid diethylamide-D3 (LSD-D3), 100 ug/mL, in Acetonitrile | Glass ampoule: 1 ml | 4/22/2022
Absolute Standards, Inc | Mazindol, 1000 ug/mL, in Methanol | Glass ampoule: 1 ml | 4/22/2022
Absolute Standards, Inc | Morphine, 1000 ug/mL, in Methanol | Glass ampoule: 1 ml | 4/22/2022
Absolute Standards, Inc | Morphine-3-β-D-glucuronide, 100 ug/mL, in Methanol:Water [1:1] | Glass ampoule: 1 ml | 4/22/2022
Absolute Standards, Inc | Morphine-6-β-D-glucuronide-D3, 100 ug/mL, in Acetonitrile:Water [1:1] | Glass ampoule: 1 ml | 4/22/2022
Absolute Standards, Inc | Morphine-D6, 100 ug/mL, in Methanol | Glass ampoule: 1 ml | 4/22/2022
Absolute Standards, Inc | Nordiazepam-D5, 1000 ug/mL, in Methanol | Glass ampoule: 1 ml | 4/22/2022
Absolute Standards, Inc | Oxazepam-D5, 100 ug/mL, in Acetonitrile | Glass ampoule: 1 ml | 4/22/2022
Absolute Standards, Inc | Potency in Beverage Matrix PT, 10-1000 ug/mL, in Ethanol:Water (1:1) | Glass ampoule: 1 ml | 6/23/2022
Absolute Standards, Inc | Standard 2, 100 ug/mL, in Methanol | Glass ampoule: 1 ml | 4/22/2022
Absolute Standards, Inc | Tetrahydrocannabivarinic acid (THCVA) PT, 10-1000 ug/mL, in Acetonitrile | Glass ampoule: 1 ml | 6/23/2022
Absolute Standards, Inc | Total THC—Calibration Mix HPLC 2, 100 ug/mL, in Acetonitrile | Glass ampoule: 1 ml | 6/23/2022
Absolute Standards, Inc | Total THC—Calibration Mix HPLC 3, 100 ug/mL, in Acetonitrile | Glass ampoule: 1 ml | 6/23/2022
Absolute Standards, Inc | Total THC—Calibration Mix HPLC 4, 100 ug/mL, in Acetonitrile | Glass ampoule: 1 ml | 6/23/2022
Absolute Standards, Inc | Total THC—Calibration Mix HPLC, 100 ug/mL, in Acetonitrile | Glass ampoule: 1 ml | 6/23/2022
Absolute Standards, Inc | Total THC—Calibration Mix HPLC, 100 ug/mL, in Hemp Oil:Acetone:Acetonitrile (5:4:1) | Glass ampoule: 1 ml | 6/23/2022
Absolute Standards, Inc | Total THC—Calibration Standard HPLC, 100 ug/mL, in Acetonitrile | Glass ampoule: 1 ml | 6/23/2022
Absolute Standards, Inc | Total THC—Performance Test HPLC in ACN, 10-1000 ug/mL, in Acetonitrile | Glass ampoule: 1 ml | 6/23/2022
Absolute Standards, Inc | Total THC—Performance Test HPLC in ACN, 10-1000 ug/mL, in Acetonitrile | Glass ampoule: 1 ml | 6/23/2022
Absolute Standards, Inc | Total THC—Performance Test HPLC in Hemp Oil, 10-1000 ug/g, in Hemp Oil:Acetone:Acetonitrile (10:9:1) | Glass ampoule: 1 mL (~1 g) | 6/23/2022
Absolute Standards, Inc | Total THC—Performance Test HPLC in Hemp Oil, 10-1000 ug/g, in Hemp Oil:Acetone:Acetonitrile (5:4:1) | Glass ampoule: 1 mL (~1 g) | 6/23/2022
Absolute Standards, Inc | Total THC—Performance Test HPLC in Hemp Oil, 10-1000 ug/g, in Hemp Oil:Acetone:Ethanol (5:4:1) | Glass ampoule: 1 mL (~1 g) | 6/23/2022
Absolute Standards, Inc | Total THC—Performance Test HPLC in Olive Oil, 10-1000 ug/g, in Olive Oil:Acetone:Ethanol (5:4:1) | Glass ampoule: 1 mL (~1 g) | 6/23/2022
Absolute Standards, Inc | Total THC—Performance Test HPLC, 10-1000 ug/mL, in Acetonitrile Part # 38415 | Glass ampoule: 1 ml | 6/23/2022
Absolute Standards, Inc | Total THC—Performance Test HPLC, 10-1000 ug/mL, in Acetonitrile Part # 38417 | Glass ampoule: 1 ml | 6/23/2022
Absolute Standards, Inc | Tryptamine Mix, 100 ug/mL, in Methanol | Glass ampoule: 1 ml | 4/22/2022
Absolute Standards, Inc | Tryptamine Mix, 1000 ug/mL, in Methanol | Glass ampoule: 1 ml | 4/22/2022
Absolute Standards, Inc | Zolpidem-D6, 100 ug/mL, in Methanol | Glass ampoule: 1 ml | 4/22/2022
API | (API) Chemistry | Amber vial: 5 mL | 8/25/2022
API | (API) Remedial Chemistry | Amber vial: 5 mL | 8/25/2022
ASI Chemicals | 17α-methyl Testosterone (100 µg/mL in methanol) | Glass ampule: 1 mL | 5/3/2022
ASI Chemicals | 17α-methyl Testosterone (50 µg/mL in methanol) | Glass ampule: 1 mL | 5/3/2022
ASI Chemicals | 17α-methyl Testosterone-[13C3] (100 µg/mL in methanol) | Glass ampule: 1 mL | 5/3/2022
ASI Chemicals | 17α-methyl Testosterone-[13C3] (50 µg/mL in methanol) | Glass ampule: 1 mL | 5/3/2022
ASI Chemicals | 17α-methyl Testosterone-[13C4] (100 µg/mL in methanol) | Glass ampule: 1 mL | 5/3/2022
ASI Chemicals | 17α-methyl Testosterone-[13C4] (50 µg/mL in methanol) | Glass ampule: 1 mL | 5/3/2022
ASI Chemicals | 1Δ Dihydrotestosterone (1Δ DHT) (100 µg/mL in methanol) | Glass ampule: 1 mL | 5/3/2022
ASI Chemicals | 1Δ Dihydrotestosterone (1Δ DHT) (50 µg/mL in methanol) | Glass ampule: 1 mL | 5/3/2022
ASI Chemicals | 1Δ Dihydrotestosterone (1Δ DHT)-[13C3] (100 µg/mL in methanol) | Glass ampule: 1 mL | 5/3/2022
ASI Chemicals | 1Δ Dihydrotestosterone (1Δ DHT)-[13C3] (50 µg/mL in methanol) | Glass ampule: 1 mL | 5/3/2022
ASI Chemicals | 5-Androsten-3ß,17ß-diol (100 µg/mL in methanol) | Glass ampule: 1 mL | 5/3/2022
ASI Chemicals | 5-Androsten-3ß,17ß-diol (50 µg/mL in methanol) | Glass ampule: 1 mL | 5/3/2022
ASI Chemicals | 5-Androsten-3ß,17ß-diol-[13C3, 2H3] (100 µg/mL in methanol) | Glass ampule: 1 mL | 5/3/2022
ASI Chemicals | 5-Androsten-3ß,17ß-diol-[13C3, 2H3] (50 µg/mL in methanol) | Glass ampule: 1 mL | 5/3/2022
ASI Chemicals | 5-Androsten-3ß,17ß-diol-[13C3] (100 µg/mL in methanol) | Glass ampule: 1 mL | 5/3/2022
ASI Chemicals | 5-Androsten-3ß,17ß-diol-[13C3] (50 µg/mL in methanol) | Glass ampule: 1 mL | 5/3/2022
ASI Chemicals | 5α-Androstan-3,17-dione (100 µg/mL in methanol) | Glass ampule: 1 mL | 5/3/2022
ASI Chemicals | 5α-Androstan-3,17-dione (50 µg/mL in methanol) | Glass ampule: 1 mL | 5/3/2022
ASI Chemicals | 5α-Androstan-3,17-dione-[13C3, 2H3] (100 µg/mL in methanol) | Glass ampule: 1 mL | 5/3/2022
ASI Chemicals | 5α-Androstan-3,17-dione-[13C3, 2H3] (50 µg/mL in methanol) | Glass ampule: 1 mL | 5/3/2022
ASI Chemicals | 5α-Androstan-3,17-dione-[13C3] (100 µg/mL in methanol) | Glass ampule: 1 mL | 5/3/2022
ASI Chemicals | 5α-Androstan-3,17-dione-[13C3] (50 µg/mL in methanol) | Glass ampule: 1 mL | 5/3/2022
ASI Chemicals | 5α-Androstan-3ß,17ß-diol (100 µg/mL in methanol) | Glass ampule: 1 mL | 5/3/2022
ASI Chemicals | 5α-Androstan-3ß,17ß-diol (50 µg/mL in methanol) | Glass ampule: 1 mL | 5/3/2022
ASI Chemicals | 5α-Androstan-3ß,17ß-diol-[13C3, 2H3] (100 µg/mL in methanol) | Glass ampule: 1 mL | 5/3/2022
ASI Chemicals | 5α-Androstan-3ß,17ß-diol-[13C3, 2H3] (50 µg/mL in methanol) | Glass ampule: 1 mL | 5/3/2022
ASI Chemicals | 5α-Androstan-3ß,17ß-diol-[13C3] (1 mg/mL acetonitrile) | Glass ampule: 1 mL | 5/3/2022
ASI Chemicals | 5α-Androstan-3ß,17ß-diol-[13C3] (100 µg/mL in methanol) | Glass ampule: 1 mL | 5/3/2022
ASI Chemicals | 5α-Androstan-3ß,17ß-diol-[13C3] (50 µg/mL in methanol) | Glass ampule: 1 mL | 5/3/2022
ASI Chemicals | 5α-Androstan-3ß,17ß-diol-17-sulfate (100 µg/mL in methanol) | Glass ampule: 1 mL | 5/3/2022
ASI Chemicals | 5α-Androstan-3ß,17ß-diol-17-sulfate (50 µg/mL in methanol) | Glass ampule: 1 mL | 5/3/2022
ASI Chemicals | 5α-Androstan-3ß,17ß-diol-17-sulfate-[13C3, 2H3] (100 µg/mL in methanol) | Glass ampule: 1 mL | 5/3/2022
ASI Chemicals | 5α-Androstan-3ß,17ß-diol-17-sulfate-[13C3, 2H3] (50 µg/mL in methanol) | Glass ampule: 1 mL | 5/3/2022
ASI Chemicals | 5α-Androstan-3ß,17ß-diol-17-sulfate-[13C3] (100 µg/mL in methanol) | Glass ampule: 1 mL | 5/3/2022
ASI Chemicals | 5α-Androstan-3ß,17ß-diol-17-sulfate-[13C3] (50 µg/mL in methanol) | Glass ampule: 1 mL | 5/3/2022
ASI Chemicals | 5α-Androstan-3ß,17ß-diol-3-sulfate (100 µg/mL in methanol) | Glass ampule: 1 mL | 5/3/2022
ASI Chemicals | 5α-Androstan-3ß,17ß-diol-3-sulfate (50 µg/mL in methanol) | Glass ampule: 1 mL | 5/3/2022
ASI Chemicals | 5α-Androstan-3ß,17ß-diol-3-sulfate-[13C3, 2H3] (100 µg/mL in methanol) | Glass ampule: 1 mL | 5/3/2022
ASI Chemicals | 5α-Androstan-3ß,17ß-diol-3-sulfate-[13C3, 2H3] (50 µg/mL in methanol) | Glass ampule: 1 mL | 5/3/2022
ASI Chemicals | 5α-Androstan-3ß,17ß-diol-3-sulfate-[13C3] (100 µg/mL in methanol) | Glass ampule: 1 mL | 5/3/2022
ASI Chemicals | 5α-Androstan-3ß,17ß-diol-3-sulfate-[13C3] (50 µg/mL in methanol) | Glass ampule: 1 mL | 5/3/2022
ASI Chemicals | 5α-Androstan-3α,17ß-diol (100 µg/mL in methanol) | Glass ampule: 1 mL | 5/3/2022
ASI Chemicals | 5α-Androstan-3α,17ß-diol (50 µg/mL in methanol) | Glass ampule: 1 mL | 5/3/2022
ASI Chemicals | 5α-Androstan-3α,17ß-diol-[13C3, 2H3] (100 µg/mL in methanol) | Glass ampule: 1 mL | 5/3/2022
ASI Chemicals | 5α-Androstan-3α,17ß-diol-[13C3, 2H3] (50 µg/mL in methanol) | Glass ampule: 1 mL | 5/3/2022
ASI Chemicals | 5α-Androstan-3α,17ß-diol-[13C3] (100 µg/mL in methanol) | Glass ampule: 1 mL | 5/3/2022
ASI Chemicals | 5α-Androstan-3α,17ß-diol-[13C3] (50 µg/mL in methanol) | Glass ampule: 1 mL | 5/3/2022
ASI Chemicals | Allopregnanolone (100 µg/mL in methanol) | Glass ampule: 1 mL | 5/3/2022
ASI Chemicals | Allopregnanolone (50 µg/mL in methanol) | Glass ampule: 1 mL | 5/3/2022
ASI Chemicals | Allopregnanolone-[13C3] (100 µg/mL in methanol) | Glass ampule: 1 mL | 5/3/2022
ASI Chemicals | Allopregnanolone-[13C3] (50 µg/mL in methanol) | Glass ampule: 1 mL | 5/3/2022
ASI Chemicals | Allopregnanolone-[13C5] (100 µg/mL in methanol) | Glass ampule: 1 mL | 5/3/2022
ASI Chemicals | Allopregnanolone-[13C5] (50 µg/mL in methanol) | Glass ampule: 1 mL | 5/3/2022
ASI Chemicals | Allopregnanolone-[2H5] (100 µg/mL in methanol) | Glass ampule: 1 mL | 5/3/2022
ASI Chemicals | Allopregnanolone-[2H5] (50 µg/mL in methanol) | Glass ampule: 1 mL | 5/3/2022
ASI Chemicals | Androst-4-ene-3 ,17-dione-[13C3] (1 mg/mL acetonitrile) | Glass ampule: 1 mL | 5/3/2022
ASI Chemicals | Androst-4-ene-3 ,17-dione-[13C3] (1 mg/mL methanol) | Glass ampule: 1 mL | 5/3/2022
ASI Chemicals | Androst-4-ene-3 ,17-dione-[13C3] (100 µg/mL in acetonitrile) | Glass ampule: 1 mL | 5/3/2022
ASI Chemicals | Androst-4-ene-3 ,17-dione-[13C3] (100 µg/mL in methanol) | Glass ampule: 1 mL | 5/3/2022
ASI Chemicals | Androst-4-ene-3 ,17-dione-[13C3] (50 µg/mL in acetonitrile) | Glass ampule: 1 mL | 5/3/2022
ASI Chemicals | Androst-4-ene-3 ,17-dione-[13C3] (50 µg/mL in methanol) | Glass ampule: 1 mL | 5/3/2022
ASI Chemicals | Androst-4-ene-3, 17-dione (1 mg/mL acetonitrile) | Glass ampule: 1 mL | 5/3/2022
ASI Chemicals | Androst-4-ene-3, 17-dione (1 mg/mL methanol) | Glass ampule: 1 mL | 5/3/2022
ASI Chemicals | Androst-4-ene-3, 17-dione (100 µg/mL in acetonitrile) | Glass ampule: 1 mL | 5/3/2022
ASI Chemicals | Androst-4-ene-3, 17-dione (100 µg/mL in methanol) | Glass ampule: 1 mL | 5/3/2022
ASI Chemicals | Androst-4-ene-3, 17-dione (50 µg/mL in acetonitrile) | Glass ampule: 1 mL | 5/3/2022
ASI Chemicals | Androst-4-ene-3, 17-dione (50 µg/mL in methanol) | Glass ampule: 1 mL | 5/3/2022
ASI Chemicals | Boldenone (1 mg/mL methanol) | Glass ampule: 1 mL | 5/3/2022
ASI Chemicals | Boldenone (100 µg/mL in methanol) | Glass ampule: 1 mL | 5/3/2022
ASI Chemicals | Boldenone (50 µg/mL in methanol) | Glass ampule: 1 mL | 5/3/2022
ASI Chemicals | Boldenone sulfate (1 mg/mL methanol) | Glass ampule: 1 mL | 5/3/2022
ASI Chemicals | Boldenone sulfate (100 µg/mL in methanol) | Glass ampule: 1 mL | 5/3/2022
ASI Chemicals | Boldenone sulfate (50 µg/mL in methanol) | Glass ampule: 1 mL | 5/3/2022
ASI Chemicals | Boldenone sulfate-[13C3] (100 µg/mL in methanol) | Glass ampule: 1 mL | 5/3/2022
ASI Chemicals | Boldenone sulfate-[13C3] (50 µg/mL in methanol) | Glass ampule: 1 mL | 5/3/2022
ASI Chemicals | Boldenone-[13C3] (1 mg/mL methanol) | Glass ampule: 1 mL | 5/3/2022
ASI Chemicals | Boldenone-[13C3] (100 µg/mL in methanol) | Glass ampule: 1 mL | 5/3/2022
ASI Chemicals | Boldenone-[13C3] (50 µg/mL in methanol) | Glass ampule: 1 mL | 5/3/2022
ASI Chemicals | Boldione (1 ,4-Androstadiene-3, 17-dione) (100 µg/mL in methanol) | Glass ampule: 1 mL | 5/3/2022
ASI Chemicals | Boldione (1 ,4-Androstadiene-3, 17-dione) (50 µg/mL in methanol) | Glass ampule: 1 mL | 5/3/2022
ASI Chemicals | Boldione (1 ,4-Androstadiene-3, 17-dione)-[13C3] (100 µg/mL in methanol) | Glass ampule: 1 mL | 5/3/2022
ASI Chemicals | Boldione (1 ,4-Androstadiene-3, 17-dione)-[13C3] (50 µg/mL in methanol) | Glass ampule: 1 mL | 5/3/2022
ASI Chemicals | Dihydrotestosterone (1 mg/mL acetonitrile) | Glass ampule: 1 mL | 5/3/2022
ASI Chemicals | Dihydrotestosterone (1 mg/mL methanol) | Glass ampule: 1 mL | 5/3/2022
ASI Chemicals | Dihydrotestosterone (100 µg/mL in acetonitrile) | Glass ampule: 1 mL | 5/3/2022
ASI Chemicals | Dihydrotestosterone (100 µg/mL in methanol) | Glass ampule: 1 mL | 5/3/2022
ASI Chemicals | Dihydrotestosterone (50 µg/mL in acetonitrile) | Glass ampule: 1 mL | 5/3/2022
ASI Chemicals | Dihydrotestosterone (50 µg/mL in methanol) | Glass ampule: 1 mL | 5/3/2022
ASI Chemicals | Dihydrotestosterone-[13C3, 2H3] (1 mg/mL methanol) | Glass ampule: 1 mL | 5/3/2022
ASI Chemicals | Dihydrotestosterone-[13C3, 2H3] (100 µg/mL in methanol) | Glass ampule: 1 mL | 5/3/2022
ASI Chemicals | Dihydrotestosterone-[13C3, 2H3] (50 µg/mL in methanol) | Glass ampule: 1 mL | 5/3/2022
ASI Chemicals | Dihydrotestosterone-[13C3] (1 mg/mL methanol) | Glass ampule: 1 mL | 5/3/2022
ASI Chemicals | Dihydrotestosterone-[13C3] (100 µg/mL in methanol) | Glass ampule: 1 mL | 5/3/2022
ASI Chemicals | Dihydrotestosterone-[13C3] (50 µg/mL in methanol) | Glass ampule: 1 mL | 5/3/2022
ASI Chemicals | Methandriol (100 µg/mL in methanol) | Glass ampule: 1 mL | 5/3/2022
ASI Chemicals | Methandriol (50 µg/mL in methanol) | Glass ampule: 1 mL | 5/3/2022
ASI Chemicals | Methandriol-[13C3] (100 µg/mL in methanol) | Glass ampule: 1 mL | 5/3/2022
ASI Chemicals | Methandriol-[13C3] (50 µg/mL in methanol) | Glass ampule: 1 mL | 5/3/2022
ASI Chemicals | Methandriol-[13C4] (100 µg/mL in methanol) | Glass ampule: 1 mL | 5/3/2022
ASI Chemicals | Methandriol-[13C4] (50 µg/mL in methanol) | Glass ampule: 1 mL | 5/3/2022
ASI Chemicals | Testosterone (1 mg/mL in acetonitrile) | Glass ampule: 1 mL | 5/3/2022
ASI Chemicals | Testosterone (1 mg/mL in methanol) | Glass ampule: 1 mL | 5/3/2022
ASI Chemicals | Testosterone (100 µg/mL in acetonitrile) | Glass ampule: 1 mL | 5/3/2022
ASI Chemicals | Testosterone (100 µg/mL in methanol) | Glass ampule: 1 mL | 5/3/2022
ASI Chemicals | Testosterone (50 µg/mL in acetonitrile) | Glass ampule: 1 mL | 5/3/2022
ASI Chemicals | Testosterone (50 µg/mL in methanol) | Glass ampule: 1 mL | 5/3/2022
ASI Chemicals | Testosterone-[13C3, 2H3] (1 mg/mL acetonitrile) | Glass ampule: 1 mL | 5/3/2022
ASI Chemicals | Testosterone-[13C3, 2H3] (1 mg/mL methanol) | Glass ampule: 1 mL | 5/3/2022
ASI Chemicals | Testosterone-[13C3, 2H3] (100 µg/mL in acetonitrile) | Glass ampule: 1 mL | 5/3/2022
ASI Chemicals | Testosterone-[13C3, 2H3] (100 µg/mL in methanol) | Glass ampule: 1 mL | 5/3/2022
ASI Chemicals | Testosterone-[13C3, 2H3] (50 µg/mL in acetonitrile) | Glass ampule: 1 mL | 5/3/2022
ASI Chemicals | Testosterone-[13C3, 2H3] (50 µg/mL in methanol) | Glass ampule: 1 mL | 5/3/2022
ASI Chemicals | Testosterone-[13C3] (1 mg/mL methanol) | Glass ampule: 1 mL | 5/3/2022
ASI Chemicals | Testosterone-[13C3] (100 µg/mL in acetonitrile) | Glass ampule: 1 mL | 5/3/2022
ASI Chemicals | Testosterone-[13C3] (100 µg/mL in methanol) | Glass ampule: 1 mL | 5/3/2022
ASI Chemicals | Testosterone-[13C3] (50 µg/mL in acetonitrile) | Glass ampule: 1 mL | 5/3/2022
ASI Chemicals | Testosterone-[13C3] (50 µg/mL in methanol) | Glass ampule: 1 mL | 5/3/2022
Audit MicroControls, Inc | Control FLQ Unassayed Chemistry, Level 2 | Kit: 10 bottles, 4 mL each | 5/4/2022
Audit MicroControls, Inc | Control FLQ Unassayed Chemistry, Level 2 | Plastic bottle: 4mL | 5/4/2022
Audit MicroControls, Inc | Control FLQ Unassayed Chemistry, Level 2 | Kit: 5 bottles, 4 mL each | 5/4/2022
Audit MicroControls, Inc | Control FLQ Unassayed Chemistry, Level 3 | Plastic bottle: 4mL | 5/4/2022
Audit MicroControls, Inc | Control FLQ Unassayed Chemistry, Level 3 | Kit: 5 bottles, 4 mL each | 5/4/2022
Audit MicroControls, Inc | Control FLQ Unassayed Chemistry, Level 3 | Kit: 10 bottles, 4 mL each | 5/4/2022
Audit MicroControls, Inc | Linearity FLQ TDM for Abbott Systems | Kit: 5 vials x 4 mL each | 5/20/2022
Audit MicroControls, Inc | Linearity FLQ TDM for Abbott Systems Level A | 1 vial x 4 mL | 5/31/2022
Audit MicroControls, Inc | Linearity FLQ TDM for Abbott Systems Level B | 1 vial x 4 mL | 5/31/2022
Audit MicroControls, Inc | Linearity FLQ TDM for Abbott Systems Level C | 1 vial x 4 mL | 5/31/2022
Audit MicroControls, Inc | Linearity FLQ TDM for Abbott Systems Level D | 1 vial x 4 mL | 5/31/2022
Audit MicroControls, Inc | Linearity FLQ TDM for Abbott Systems Level E | 1 vial x 4 mL | 5/31/2022
Audit MicroControls, Inc | Linearity FLQ TDM for Beckman AU | Kit: 5 vials x 4 mL each | 5/20/2022
Audit MicroControls, Inc | Linearity FLQ TDM for Beckman AU Level A | 1 vial x 4 mL | 5/31/2022
Audit MicroControls, Inc | Linearity FLQ TDM for Beckman AU Level B | 1 vial x 4 mL | 5/31/2022
Audit MicroControls, Inc | Linearity FLQ TDM for Beckman AU Level C | 1 vial x 4 mL | 5/31/2022
Audit MicroControls, Inc | Linearity FLQ TDM for Beckman AU Level D | 1 vial x 4 mL | 5/31/2022
Audit MicroControls, Inc | Linearity FLQ TDM for Beckman AU Level E | 1 vial x 4 mL | 5/31/2022
Audit MicroControls, Inc | Linearity FLQ TDM for Roche Systems | Kit: 5 vials x 4 mL each | 5/20/2022
Audit MicroControls, Inc | Linearity FLQ TDM for Roche Systems Level A | 1 vial x 4 mL | 5/31/2022
Audit MicroControls, Inc | Linearity FLQ TDM for Roche Systems Level B | 1 vial x 4 mL | 5/31/2022
Audit MicroControls, Inc | Linearity FLQ TDM for Roche Systems Level C | 1 vial x 4 mL | 5/31/2022
Audit MicroControls, Inc | Linearity FLQ TDM for Roche Systems Level D | 1 vial x 4 mL | 5/31/2022
Audit MicroControls, Inc | Linearity FLQ TDM for Roche Systems Level E | 1 vial x 4 mL | 5/31/2022
Biochemical Diagnostics, Inc | Detectabuse Custom Liquid Control Urine, MC277 | Glass vials: 20 mL, 25 mL | 8/26/2020
Biochemical Diagnostics, Inc | Detectabuse Custom Liquid Control Urine, MC278 | Glass vials: 5 mL, 10 mL, 20 mL, 25 mL | 8/26/2020
Biochemical Diagnostics, Inc | Detectabuse Custom Liquid Control Urine, MC279 | Glass vials: 5 mL, 10 mL, 20 mL, 25 mL | 8/26/2020
Biochemical Diagnostics, Inc | Salivabuse Liquid Control Oral Fluid, OF28 | Glass vials: 5 mL, 20 mL, 25 mL | 7/28/2020
Biochemical Diagnostics, Inc | Salivabuse Liquid Control Oral Fluid, OF29 | Glass vials: 5 mL, 20 mL, 25 mL | 9/24/2020
Cayman Chemical Company | (−)-11-hydroxy-Δ8-THCV (exempt preparation) 1 mg/mL in Acetonitrile | Glass ampule: 1 mL | 9/17/2022
Cayman Chemical Company | (−)-11-hydroxy-Δ8-THCV (exempt preparation) 1 mg/mL in Methanol | Glass ampule: 1 mL | 9/17/2022
Cayman Chemical Company | (−)-11-hydroxy-Δ8-THCV (exempt preparation) 100 µg/mL in Acetonitrile | Glass ampule: 1 mL | 9/17/2022
Cayman Chemical Company | (−)-11-hydroxy-Δ8-THCV (exempt preparation) 100 µg/mL in Methanol | Glass ampule: 1 mL | 9/17/2022
Cayman Chemical Company | 2,5-DMA (hydrochloride) (exempt preparation) 1 mg/mL in Methanol | Glass ampule: 1 mL | 9/17/2022
Cayman Chemical Company | 2,5-DMA (hydrochloride) (exempt preparation) 100 µg/mL in Methanol | Glass ampule: 1 mL | 9/17/2022
Cayman Chemical Company | 3-Methylmethcathinone (hydrochloride) (exempt preparation) 1 mg/mL in Methanol | Glass ampule: 1 mL | 9/17/2022
Cayman Chemical Company | 3-Methylmethcathinone (hydrochloride) (exempt preparation) 100 µg/mL in Methanol | Glass ampule: 1 mL | 9/17/2022
Cayman Chemical Company | 3-Methylmethcathinone-d3 (hydrochloride) (exempt preparation) 1 mg/mL in Methanol | Glass ampule: 1 mL | 9/17/2022
Cayman Chemical Company | 3-Methylmethcathinone-d3 (hydrochloride) (exempt preparation) 100 µg/mL in Methanol | Glass ampule: 1 mL | 9/17/2022
Cayman Chemical Company | 4-methoxy DMT (exempt preparation) 1 mg/mL in Acetonitrile | Glass ampule: 1 mL | 9/17/2022
Cayman Chemical Company | 4-methoxy DMT (exempt preparation) 1 mg/mL in Methanol | Glass ampule: 1 mL | 9/17/2022
Cayman Chemical Company | 4-methoxy DMT (exempt preparation) 100 µg/mL in Acetonitrile | Glass ampule: 1 mL | 9/17/2022
Cayman Chemical Company | 4-methoxy DMT (exempt preparation) 100 µg/mL in Methanol | Glass ampule: 1 mL | 9/17/2022
Cayman Chemical Company | 5-fluoro MDMB-PICA (exempt preparation) 1 mg/mL in Acetonitrile | Glass ampule: 1 mL | 9/17/2022
Cayman Chemical Company | 5-fluoro MDMB-PICA (exempt preparation) 1 mg/mL in Methanol | Glass ampule: 1 mL | 9/17/2022
Cayman Chemical Company | 5-fluoro MDMB-PICA (exempt preparation) 100 µg/mL in Acetonitrile | Glass ampule: 1 mL | 9/17/2022
Cayman Chemical Company | 5-fluoro MDMB-PICA (exempt preparation) 100 µg/mL in Methanol | Glass ampule: 1 mL | 9/17/2022
Cayman Chemical Company | 5-fluoro MDMB-PICA-d5 (exempt preparation) 1 mg/mL in Acetonitrile | Glass ampule: 1 mL | 9/17/2022
Cayman Chemical Company | 5-fluoro MDMB-PICA-d5 (exempt preparation) 1 mg/mL in Methanol | Glass ampule: 1 mL | 9/17/2022
Cayman Chemical Company | 5-fluoro MDMB-PICA-d5 (exempt preparation) 100 µg/mL in Acetonitrile | Glass ampule: 1 mL | 9/17/2022
Cayman Chemical Company | 5-fluoro MDMB-PICA-d5 (exempt preparation) 100 µg/mL in Methanol | Glass ampule: 1 mL | 9/17/2022
Cayman Chemical Company | 6-Acetylmorphine (CRM) 1 mg/ml in Acetonitrile | Glass ampule: 1 mL | 5/9/2022
Cayman Chemical Company | 6-Acetylmorphine (CRM) 100 µg/ml in Acetonitrile | Glass ampule: 1 mL | 5/9/2022
Cayman Chemical Company | 6-Acetylmorphine-d6 (CRM) 1 mg/ml in Acetonitrile | Glass ampule: 1 mL | 5/9/2022
Cayman Chemical Company | 6-Acetylmorphine-d6 (CRM) 100 µg/ml in Acetonitrile | Glass ampule: 1 mL | 5/9/2022
Cayman Chemical Company | 9(R)-Δ7-THC (CRM) 1 mg/mL in acetonitrile | Glass Ampule: 1 mL | 9/7/2021
Cayman Chemical Company | 9(R)-Δ7-THC (CRM) 1 mg/mL in methanol | Glass Ampule: 1 mL | 9/7/2021
Cayman Chemical Company | 9(R)-Δ7-THC (CRM) 100 µg/ml in acetonitrile | Glass Ampule: 1 mL | 9/7/2021
Cayman Chemical Company | 9(R)-Δ7-THC (CRM) 100 µg/ml in methanol | Glass Ampule: 1 mL | 9/7/2021
Cayman Chemical Company | 9(S)-Δ7-THC (CRM) 1 mg/mL in acetonitrile | Glass Ampule: 1 mL | 9/7/2021
Cayman Chemical Company | 9(S)-Δ7-THC (CRM) 1 mg/mL in methanol | Glass Ampule: 1 mL | 9/7/2021
Cayman Chemical Company | 9(S)-Δ7-THC (CRM) 100 µg/ml in acetonitrile | Glass Ampule: 1 mL | 9/7/2021
Cayman Chemical Company | 9(S)-Δ7-THC (CRM) 100 µg/ml in methanol | Glass Ampule: 1 mL | 9/7/2021
Cayman Chemical Company | ADB-BUTINACA (exempt preparation) 1 mg/mL in Methanol | Glass ampule: 1 mL | 9/17/2022
Cayman Chemical Company | ADB-BUTINACA (exempt preparation) 100 µg/mL in Methanol | Glass ampule: 1 mL | 9/17/2022
Cayman Chemical Company | Brorphine (hydrochloride) (CRM) 1 mg/mL in Methanol | Glass ampule: 1 mL | 9/17/2022
Cayman Chemical Company | Brorphine (hydrochloride) (CRM) 100 µg/mL in Methanol | Glass ampule: 1 mL | 9/17/2022
Cayman Chemical Company | Brorphine-d7 (exempt preparation) 1 mg/mL in Methanol | Glass ampule: 1 mL | 9/17/2022
Cayman Chemical Company | Brorphine-d7 (exempt preparation) 100 µg/mL in Methanol | Glass ampule: 1 mL | 9/17/2022
Cayman Chemical Company | Etonitazene (hydrochloride) (exempt preparation) 1 mg/mL in Methanol | Glass ampule: 1 mL | 9/17/2022
Cayman Chemical Company | Etonitazene (hydrochloride) (exempt preparation) 100 µg/mL in Methanol | Glass ampule: 1 mL | 9/17/2022
Cayman Chemical Company | exo-THC (CRM) 1 mg/ml in Acetonitrile | Glass ampule: 1 mL | 5/9/2022
Cayman Chemical Company | exo-THC (CRM) 1 mg/ml in Methanol | Glass ampule: 1 mL | 5/9/2022
Cayman Chemical Company | exo-THC (CRM) 100 µg/ml in Acetonitrile | Glass ampule: 1 mL | 5/9/2022
Cayman Chemical Company | exo-THC (CRM) 100 µg/ml in Methanol | Glass ampule: 1 mL | 5/9/2022
Cayman Chemical Company | Isotonitazene (CRM) 1 mg/mL in Methanol | Glass ampule: 1 mL | 9/17/2022
Cayman Chemical Company | Isotonitazene (CRM) 100 µg/mL in Methanol | Glass ampule: 1 mL | 9/17/2022
Cayman Chemical Company | Isotonitazene-d7 (exempt preparation) 1 mg/mL in Methanol | Glass ampule: 1 mL | 9/17/2022
Cayman Chemical Company | Isotonitazene-d7 (exempt preparation) 100 µg/mL in Methanol | Glass ampule: 1 mL | 9/17/2022
Cayman Chemical Company | LAMPA (exempt preparation) 100 µg/ml in Acetonitrile | Glass ampule: 0.5 mL | 5/9/2022
Cayman Chemical Company | LAMPA (exempt preparation) 50 µg/ml in Acetonitrile | Glass ampule: 1.0 mL | 5/9/2022
Cayman Chemical Company | LSD (L-hemitartrate) (exempt preparation) 100 µg/ml in Methanol | Glass ampule: 0.5 mL | 5/9/2022
Cayman Chemical Company | LSD (L-hemitartrate) (exempt preparation) 50 µg/ml in Methanol | Glass ampule: 1.0 mL | 5/9/2022
Cayman Chemical Company | meta-Fluorofentanyl (hydrochloride) (exempt preparation) 100 µg/mL in Methanol | Glass ampule: 1 mL | 9/17/2022
Cayman Chemical Company | Metonitazene (hydrochloride) (exempt preparation) 1 mg/mL in Acetonitrile | Glass ampule: 1 mL | 9/17/2022
Cayman Chemical Company | Metonitazene (hydrochloride) (exempt preparation) 100 µg/mL in Acetonitrile | Glass ampule: 1 mL | 9/17/2022
Cayman Chemical Company | MiPLA (exempt preparation) 100 µg/ml in Acetonitrile | Glass ampule: 0.5 mL | 5/9/2022
Cayman Chemical Company | MiPLA (exempt preparation) 50 µg/ml in Acetonitrile | Glass ampule: 1.0 mL | 5/9/2022
Cayman Chemical Company | Mushroom Hydroxy-Tryptamine Mixture 1 mg/mL in Acetonitrile | Glass ampule: 1 mL | 9/17/2022
Cayman Chemical Company | Mushroom Hydroxy-Tryptamine Mixture 250 µg/mL in Acetonitrile | Glass ampule: 1 mL | 9/17/2022
Cayman Chemical Company | Mushroom Hydroxy-Tryptamine Mixture 500 µg/mL in Acetonitrile | Glass ampule: 1 mL | 9/17/2022
Cayman Chemical Company | Mushroom Phosphorylated Tryptamine Mixture (CRM) 1 mg/mL in ACN:H20 | Glass ampule: 1 mL | 9/17/2022
Cayman Chemical Company | Mushroom Phosphorylated Tryptamine Mixture (CRM) 250 µg/mL in ACN:H20 | Glass ampule: 1 mL | 9/17/2022
Cayman Chemical Company | Mushroom Phosphorylated Tryptamine Mixture (CRM) 500 µg/mL in ACN:H20 | Glass ampule: 1 mL | 9/17/2022
Cayman Chemical Company | Norbuprenorphine (CRM) 1 mg/ml in Methanol | Glass ampule: 1 mL | 5/9/2022
Cayman Chemical Company | Norbuprenorphine (CRM) 100 µg/ml in Methanol | Glass ampule: 1 mL | 5/9/2022
Cayman Chemical Company | Norbuprenorphine-d3 (CRM) 1 mg/ml in Methanol | Glass ampule: 1 mL | 5/9/2022
Cayman Chemical Company | Norbuprenorphine-d3 (CRM) 100 µg/ml in Methanol | Glass ampule: 1 mL | 5/9/2022
Cayman Chemical Company | N-Pyrrolidino Etonitazene (exempt preparation) 1 mg/mL in Methanol | Glass ampule: 1 mL | 9/17/2022
Cayman Chemical Company | N-Pyrrolidino Etonitazene (exempt preparation) 100 µg/mL in Methanol | Glass ampule: 1 mL | 9/17/2022
Cayman Chemical Company | ortho-Fluorofentanyl (hydrochloride) (exempt preparation) 100 µg/mL in Methanol | Glass ampule: 1 mL | 9/17/2022
Cayman Chemical Company | Phenylacetone (exempt preparation) 1 mg/mL in Methyl Acetate | Glass ampule: 1 mL | 9/17/2022
Cayman Chemical Company | Phenylacetone (exempt preparation) 100 µg/mL in Methyl Acetate | Glass ampule: 1 mL | 9/17/2022
Cayman Chemical Company | Protonitazene (hydrochloride) (exempt preparation) 1 mg/mL in Methanol | Glass ampule: 1 mL | 9/17/2022
Cayman Chemical Company | Protonitazene (hydrochloride) (exempt preparation) 100 µg/mL in Methanol | Glass ampule: 1 mL | 9/17/2022
Cayman Chemical Company | Triazolam (exempt preparation) 1 mg/mL in Methanol | Glass ampule: 1 mL | 9/17/2022
Cayman Chemical Company | Triazolam (exempt preparation) 100 µg/mL in Methanol | Glass ampule: 1 mL | 9/17/2022
Cayman Chemical Company | Δ8-THC-C8 (exempt preparation) 1 mg/mL in Acetonitrile | Glass ampule: 1 mL | 9/17/2022
Cayman Chemical Company | Δ8-THC-C8 (exempt preparation) 1 mg/mL in Methanol | Glass ampule: 1 mL | 9/17/2022
Cayman Chemical Company | Δ8-THC-C8 (exempt preparation) 100 µg/mL in Acetonitrile | Glass ampule: 1 mL | 9/17/2022
Cayman Chemical Company | Δ8-THC-C8 (exempt preparation) 100 µg/mL in Methanol | Glass ampule: 1 mL | 9/17/2022
Cayman Chemical Company | Δ9-THC-C8 (exempt preparation) 1 mg/mL in Acetonitrile | Glass ampule: 1 mL | 9/17/2022
Cayman Chemical Company | Δ9-THC-C8 (exempt preparation) 1 mg/mL in Methanol | Glass ampule: 1 mL | 9/17/2022
Cayman Chemical Company | Δ9-THC-C8 (exempt preparation) 100 µg/mL in Acetonitrile | Glass ampule: 1 mL | 9/17/2022
Cayman Chemical Company | Δ9-THC-C8 (exempt preparation) 100 µg/mL in Methanol | Glass ampule: 1 mL | 9/17/2022
Cerilliant Corporation | (-)-11-Hydroxy-delta8-THC | Amber ampule: 1 mL | 4/29/2022
Cerilliant Corporation | (-)-delta9-THC-beta-D-glucuronide | Amber ampule: 1 mL | 5/3/2022
Cerilliant Corporation | (-)-delta9-THC-O-beta-D-glucuronide, sodium salt | Glass ampule: 1.0 mL | 10/11/2022
Cerilliant Corporation | 5-MeO-DMT-D4 | Amber ampule: 1 mL | 8/24/2022
Cerilliant Corporation | Brorphine HCl | Glass ampule: 1.0 mL | 4/22/2022
Cerilliant Corporation | Brorphine-D7 HCl | Glass ampule: 1.0 mL | 4/22/2022
Cerilliant Corporation | Bufetonine-D4 | Amber ampule: 1 mL | 8/24/2022
Cerilliant Corporation | Buprenorphine-D9 | Amber ampule: 1 mL | 8/24/2022
Cerilliant Corporation | Delta8-Tetrahydrocannabinolic Acid A (delta8-THCA-A) | Glass ampule: 1.0 mL | 4/22/2022
Cerilliant Corporation | Delta8-Tetrahydrocannabiphorol (delta8-THCP) | Glass ampule: 1.0 mL | 4/22/2022
Cerilliant Corporation | Delta8-Tetrahydrocannabivarin (delta8-THCV) | Glass ampule: 1.0 mL | 4/22/2022
Cerilliant Corporation | Delta8-Tetrahydrocannabivarin-D5 (delta8-THCV-D5) | Glass ampule: 1.0 mL | 4/22/2022
Cerilliant Corporation | Delta8-THC-O-Acetate | Glass ampule: 1.0 mL | 4/22/2022
Cerilliant Corporation | Mephobarbital-D3 | Glass ampule: 1.0 mL | 4/22/2022
Cerilliant Corporation | Methoxetamine HCl | Amber ampule: 1 mL | 8/24/2022
Cerilliant Corporation | Metodesnitazene HCl | Amber ampule: 1 mL | 4/29/2022
Cerilliant Corporation | Metodesnitazene-D4 HCl | Amber ampule: 1 mL | 4/29/2022
Cerilliant Corporation | N,N-Dimethyltryptamine-D4 (DMT-D4) | Glass ampule: 1.0 mL | 4/22/2022
Cerilliant Corporation | Nordesomorphine HCl | Glass ampule: 1.0 mL | 4/22/2022
Cliniqa Corporation | Phenobarbital Calibrator Kit | Kit: 6 Vials, 5 ml each | 8/31/2022
Cliniqa Corporation | Phenobarbital Calibrator Level 1, Part: 43822 | Vial: 5 ml | 8/31/2022
Cliniqa Corporation | Phenobarbital Calibrator Level 2, Part: 43823 | Vial: 5 ml | 8/31/2022
Cliniqa Corporation | Phenobarbital Calibrator Level 3, Part: 43824 | Vial: 5 ml | 8/31/2022
Cliniqa Corporation | Phenobarbital Calibrator Level 4, Part: 43824 | Vial: 5 ml | 8/31/2022
Cliniqa Corporation | Phenobarbital Calibrator Level 5, Part: 43825 | Vial: 5 ml | 8/31/2022
Cliniqa Corporation | Phenobarbital Calibrator Level 6, Part: 43826 | Vial: 5 ml | 8/31/2022
College of American Pathologists (CAP) | 2023 NOB-01 | Amber Vial: 15 mL | 8/3/2022
College of American Pathologists (CAP) | 2023 NOB-02 | Amber Vial: 15 mL | 8/3/2022
College of American Pathologists (CAP) | 2023 NOB-03 | Amber Vial: 15 mL | 8/3/2022
College of American Pathologists (CAP) | 2023 NOB-04 | Amber Vial: 15 mL | 8/3/2022
College of American Pathologists (CAP) | 2023 NOB-05 | Amber Vial: 15 mL | 8/3/2022
College of American Pathologists (CAP) | 2023 NOB-06 | Amber Vial: 15 mL | 8/3/2022
College of American Pathologists (CAP) | 2023 SCDD-01 | HDPE Bottle: 10 mL | 8/3/2022
College of American Pathologists (CAP) | 2023 SCDD-02 | HDPE Bottle: 10 mL | 8/3/2022
College of American Pathologists (CAP) | 2023 SCDD-03 | HDPE Bottle: 10 mL | 8/3/2022
College of American Pathologists (CAP) | 2023 SCDD-04 | HDPE Bottle: 10 mL | 8/3/2022
College of American Pathologists (CAP) | 2023 SCDD-05 | HDPE Bottle: 10 mL | 8/3/2022
College of American Pathologists (CAP) | 2023 SCDD-06 | HDPE Bottle: 10 mL | 8/3/2022
Helena Laboratories | SPIFE Nexus IFE Kit, Cat. No. 2401, 2408, 2409 | Kit: 10 gels | 10/13/2022
Helena Laboratories | SPIFE Nexus Split Beta SPE Kit, Cat. No. 2420, 2421, 2422 | Kit: 10 gels | 10/13/2022
Immunalysis Corporation | Cannabinoid Oral Fluid Calibrator—2 | Amber vial: 10 mL | 5/2/2022
Immunalysis Corporation | Cannabinoid Oral Fluid Calibrator—3 | Amber vial: 10 mL | 5/2/2022
Immunalysis Corporation | Cannabinoid Oral Fluid Calibrator—4 | Amber vial: 10 mL | 5/2/2022
Immunalysis Corporation | Cannabinoid Oral Fluid Calibrator—1 | Amber vial: 10 mL | 5/2/2022
Immunalysis Corporation | Cannabinoid Oral Fluid Control—High | Amber vial: 10 mL | 5/2/2022
Immunalysis Corporation | Cannabinoid Oral Fluid Control—Low | Amber vial: 10 mL | 5/2/2022
Immunalysis Corporation | Cannabinoid Oral Fluid Control—Set | 1 kit: 2 vials x 10 mL | 5/2/2022
Immunalysis Corporation | Meperidine Urine Calibrator 1 | LDPE Dropper Bottle: 15 mL | 5/2/2022
Immunalysis Corporation | Meperidine Urine Calibrator 2 | LDPE Dropper Bottle: 15 mL | 5/2/2022
Immunalysis Corporation | Meperidine Urine Calibrator 3 | LDPE Dropper Bottle: 15 mL | 5/2/2022
Immunalysis Corporation | Meperidine Urine Calibrator 4 | LDPE Dropper Bottle: 15 mL | 5/2/2022
Immunalysis Corporation | Meperidine Urine Control High | LDPE Dropper Bottle: 15 mL | 5/2/2022
Immunalysis Corporation | Meperidine Urine Control Low | LDPE Dropper Bottle: 15 mL | 5/2/2022
Immunalysis Corporation | Meperidine Urine Control Set | 1 kit: 2 vials x 15 mL | 5/2/2022
Immunalysis Corporation | Tapentadol Urine Calibrator 1 | LDPE Dropper Bottle: 15 mL | 5/2/2022
Immunalysis Corporation | Tapentadol Urine Calibrator 2 | LDPE Dropper Bottle: 15 mL | 5/2/2022
Immunalysis Corporation | Tapentadol Urine Calibrator 3 | LDPE Dropper Bottle: 15 mL | 5/2/2022
Immunalysis Corporation | Tapentadol Urine Calibrator 4 | LDPE Dropper Bottle: 15 mL | 5/2/2022
Immunalysis Corporation | Tapentadol Urine Control High | LDPE Dropper Bottle: 15 mL | 5/2/2022
Immunalysis Corporation | Tapentadol Urine Control Low | LDPE Dropper Bottle: 15 mL | 5/2/2022
Immunalysis Corporation | Tapentadol Urine Control Set | 1 kit: 2 vials x 15 mL | 5/2/2022
LGC—Dr. Ehrenstorfer | Cannabinoids Acids Mixture 11213 1000 μg/mL in Acetonitrile | Amber ampule: 0.4 mL | 9/1/2022
LGC—Dr. Ehrenstorfer | Custom Cannabinoids Acid/Neutrals Mix Kit, 16 compounds, 1000 ug/mL, 0.4 mL | 1 kit; 2 vials x 0.4 mL | 9/1/2022
LGC—Dr. Ehrenstorfer | Custom Pharmaceutical Mixture 11648 30-40 μg/mL in Methanol | Pack: 5 Amber ampules, 1.0 mL each | 10/28/2022
LGC—Dr. Ehrenstorfer | Custom Pharmaceutical Mixture 11649 150 μg/mL in Methanol | Pack: 5 Amber ampules, 1.0 mL each | 10/28/2022
LGC—Dr. Ehrenstorfer | Hormones Mixture 264 200 µg/mL in methanol | Amber ampule: 1 mL | 7/7/2022
LGC—Dr. Ehrenstorfer | Mestanolone 100 μg/mL in Methanol | Amber ampule: 1.0 mL | 10/28/2022
LGC—Dr. Ehrenstorfer | Methenolone acetate 100 μg/mL in Methanol | Amber ampule: 1.0 mL | 10/28/2022
LGC—Dr. Ehrenstorfer | Psilocin 1000 µg/mL in Acetonitrile | Amber ampule: 1 mL | 8/15/2022
LGC—Dr. Ehrenstorfer | Psilocybin 1000 µg/mL in Acetonitrile | Amber ampule: 1 mL | 8/15/2022
LGC—Dr. Ehrenstorfer | Psilocybin 1000 µg/mL in Acetonitrile:Water | Amber ampule: 1 mL | 12/22/2022
LGC—Dr. Ehrenstorfer/Kaycha Labs | Cannabinoids Acid/Neutrals Kit 11390 500:1000 μg/mL in Acetonitrile | 1 kit; 2 ampules x 0.4 mL | 10/28/2022
LGC—Dr. Ehrenstorfer/Kaycha Labs | Cannabinoids Acids Mixture 11792 1000 μg/mL in Acetonitrile | Amber ampule: 0.4 mL | 10/28/2022
LGC—Dr. Ehrenstorfer/Kaycha Labs | Cannabinoids Neutrals Mixture 11389 500:1000 μg/mL in Acetonitrile | Amber ampule: 0.4 mL | 10/28/2022
Lin-Zhi International | LZI Norbuprenorphine Calibrator (Urine), Norbuprenorphine, Cutoff Calibrator #2 Ref# 0275 | Dropper bottle: 5 mL | 5/20/2022
Lin-Zhi International | LZI Norbuprenorphine Calibrator (Urine), Norbuprenorphine, High Calibrator Ref# 0279 | Dropper bottle: 5 mL | 5/20/2022
Lin-Zhi International | LZI Norbuprenorphine Calibrator (Urine), Norbuprenorphine, Intermediate Calibrator #1 Ref# 0277 | Dropper bottle: 5 mL | 5/20/2022
Lin-Zhi International | LZI Norbuprenorphine Calibrator (Urine), Norbuprenorphine, Intermediate Calibrator #2 Ref# 0278 | Dropper bottle: 5 mL | 5/20/2022
Lin-Zhi International | LZI Norbuprenorphine Calibrator (Urine), Norbuprenorphine, Low/Cutoff Calibrator #1 Ref# 0273 | Dropper bottle: 5 mL | 5/20/2022
Lin-Zhi International | LZI Norbuprenorphine Control (Urine), Norbuprenorphine, Level 1 Control Ref# 0272 | Dropper bottle: 5 mL | 5/20/2022
Lin-Zhi International | LZI Norbuprenorphine Control (Urine), Norbuprenorphine, Level 1/Level 2 Control Ref# 0274 | Dropper bottle: 5 mL | 5/20/2022
Lin-Zhi International | LZI Norbuprenorphine Control (Urine), Norbuprenorphine, Level 2 Control Ref# 0276 | Dropper bottle: 5 mL | 5/20/2022
Lin-Zhi International | LZI Norfentanyl Calibrator (Urine), Norfentanyl, Cutoff Calibrator, Ref# 0313 | Dropper bottle: 5 mL | 5/20/2022
Lin-Zhi International | LZI Norfentanyl Calibrator (Urine), Norfentanyl, Cutoff Calibrator, Ref# 0553 | Dropper bottle: 5 mL | 5/20/2022
Lin-Zhi International | LZI Norfentanyl Calibrator (Urine), Norfentanyl, High Calibrator, Ref# 0555 | Dropper bottle: 5 mL | 5/20/2022
Lin-Zhi International | LZI Norfentanyl Calibrator (Urine), Norfentanyl, Intermediate Calibrator, Ref# 0554 | Dropper bottle: 5 mL | 5/20/2022
Lin-Zhi International | LZI Norfentanyl Calibrator (Urine), Norfentanyl, Low Calibrator, Ref# 0552 | Dropper bottle: 5 mL | 5/20/2022
Lin-Zhi International | LZI Norfentanyl Control (Urine), Norfentanyl, Level 1 Control, Ref# 0317 | Dropper bottle: 5 mL | 5/20/2022
Lin-Zhi International | LZI Norfentanyl Control (Urine), Norfentanyl, Level 1 Control, Ref# 0557 | Dropper bottle: 5 mL | 5/20/2022
Lin-Zhi International | LZI Norfentanyl Control (Urine), Norfentanyl, Level 2 Control, Ref# 0318 | Dropper bottle: 5 mL | 5/20/2022
Lin-Zhi International | LZI Oxycodone (100) Calibrator (Urine) Oxycodone, Cutoff Calibrator Ref# 0613 | Dropper bottle: 5 mL | 10/21/2022
Lin-Zhi International | LZI Oxycodone (100) Calibrator (Urine) Oxycodone, High Calibrator Ref# 0615 | Dropper bottle: 5 mL | 10/21/2022
Lin-Zhi International | LZI Oxycodone (100) Calibrator (Urine) Oxycodone, Intermediate Calibrator Ref# 0614 | Dropper bottle: 5 mL | 10/21/2022
Lin-Zhi International | LZI Oxycodone (100) Calibrator (Urine) Oxycodone, Low Calibrator Ref# 0612 | Dropper bottle: 5 mL | 10/21/2022
Lin-Zhi International | LZI Oxycodone (100) Control (Urine) Oxycodone, Level 1 Control Ref# 0617 | Dropper bottle: 5 mL | 10/21/2022
Lin-Zhi International | LZI Oxycodone (100) Control (Urine) Oxycodone, Level 2 Control Ref# 0618 | Dropper bottle: 5 mL | 10/21/2022
Lin-Zhi International | LZI Oxycodone (300) Calibrator (Urine) Oxycodone, Cutoff Calibrator Ref# 0623 | Dropper bottle: 5 mL | 10/21/2022
Lin-Zhi International | LZI Oxycodone (300) Calibrator (Urine) Oxycodone, High Calibrator Ref# 0625 | Dropper bottle: 5 mL | 10/21/2022
Lin-Zhi International | LZI Oxycodone (300) Calibrator (Urine) Oxycodone, Intermediate Calibrator Ref# 0624 | Dropper bottle: 5 mL | 10/21/2022
Lin-Zhi International | LZI Oxycodone (300) Calibrator (Urine) Oxycodone, Low Calibrator Ref# 0622 | Dropper bottle: 5 mL | 10/21/2022
Lin-Zhi International | LZI Oxycodone (300) Control (Urine) Oxycodone, Level 1 Control Ref# 0627 | Dropper bottle: 5 mL | 10/21/2022
Lin-Zhi International | LZI Oxycodone (300) Control (Urine) Oxycodone, Level 2 Control Ref# 0628 | Dropper bottle: 5 mL | 10/21/2022
Lin-Zhi International | LZI Oxycodone 100 Control (Urine) Oxycodone, Level 1 Control Ref# 242b | Dropper bottle: 5 mL | 10/21/2022
Lin-Zhi International | LZI Oxycodone 100 Control (Urine) Oxycodone, Level 2 Control Ref# 0244b | Dropper bottle: 5 mL | 10/21/2022
Lin-Zhi International | LZI Oxycodone 300 Control (Urine) Oxycodone, Level 1 Control Ref# 0245b | Dropper bottle: 5 mL | 10/21/2022
Lin-Zhi International | LZI Oxycodone 300 Control (Urine) Oxycodone, Level 2 Control Ref# 0247b | Dropper bottle: 5 mL | 10/21/2022
Lin-Zhi International | LZI Oxycodone Calibrator (Urine) Oxycodone, Cutoff Calibrator #1 Ref# 243b | Dropper bottle: 5 mL | 10/21/2022
Lin-Zhi International | LZI Oxycodone Calibrator (Urine) Oxycodone, Cutoff Calibrator #2 Ref 0246b | Dropper bottle: 5 mL | 10/21/2022
Lin-Zhi International | LZI Oxycodone Calibrator (Urine) Oxycodone, High Calibrator Ref# 0249b | Dropper bottle: 5 mL | 10/21/2022
Lin-Zhi International | LZI Oxycodone Calibrator (Urine) Oxycodone, Intermediate Calibrator Ref# 0248b | Dropper bottle: 5 mL | 10/21/2022
Lin-Zhi International | LZI Oxycodone Calibrator (Urine) Oxycodone, Low Calibrator Ref# 0252b | Dropper bottle: 5 mL | 10/21/2022
Lipomed Inc | 5-MeO-DMT HCl 1.0 mg/mL in methanol | Glass ampule: 1 mL | 10/26/2022
Lipomed Inc | Ecgonine-D3 HCl 0.1 mg free base/1 mL methanol | Amber ampule: 1 mL | 6/16/2022
Lipomed Inc | Ecgonine-D3 HCl 1 mg free base/1 mL methanol | Amber ampule: 1 mL | 6/16/2022
Microgenics Corporation | DRI Tramadol Calibrator (Kit Reference Number B40000366) | Kit: 5 Dropper vials, 10 mL each | 7/28/2022
Microgenics Corporation | DRI Tramadol Cutoff Calibrator (Kit Reference Number B40000352) | Kit: 2 Dropper vials, 10 mL each | 7/28/2022
Microgenics Corporation | DRI Tramadol High and Low Control Set (Kit Reference Number B40000354) | Kit: 4 Dropper vials, 10 mL each | 7/28/2022
o2si smart solutions | 4-androstene-3,17-dione in MeOH Check Standard Solution, 1000 mg/L—NOT FOR SALE | Amber ampule: 1 mL | 6/9/2022
o2si smart solutions | Boldenone Check Standard Solution, 1000 mg/L—NOT FOR SALE | Amber ampule: 1 mL | 6/9/2022
o2si smart solutions | Boldenone Cypionate Check Standard Solution, 1000 mg/L—NOT FOR SALE | Amber ampule: 1 mL | 6/9/2022
o2si smart solutions | Carisoprodol Check Standard Solution, 1000 mg/L—NOT FOR SALE | Amber ampule: 1 mL | 6/9/2022
o2si smart solutions | Custom CBD Mix, 14-0226, 50 mg/L, 1 ml | Amber ampule: 1 mL | 6/3/2022
o2si smart solutions | Custom Pharmaceutical Mixture ICV (Second Source), 16-0260, 250.0 ug/mL, Intermediate Second Source Solution—NOT FOR SALE | Amber Ampule: 1 mL | 6/3/2022
o2si smart solutions | Custom tramadol hydrochloride Check Standard Solution 1000 ug/mL, 1 mL—NOT FOR SALE | Amber ampule: 1 mL | 6/9/2022
o2si smart solutions | hydrocodone Check Standard Solution, 600 mg/L—NOT FOR SALE | Amber ampule: 1 mL | 6/9/2022
o2si smart solutions | Mesterolone Check Standard Solution, 1000 mg/L—NOT FOR SALE | Amber ampule: 1 mL | 6/9/2022
o2si smart solutions | Methandrostenolone Check Standard Solution, 1000 mg/L—NOT FOR SALE | Amber ampule: 1 mL | 6/9/2022
o2si smart solutions | Methylandrostenediol Check Standard Solution, 1000 mg/L—NOT FOR SALE | Amber ampule: 1 mL | 6/9/2022
o2si smart solutions | Nandrolone Check Standard Solution, 1000 mg/L—NOT FOR SALE | Amber ampule: 1 mL | 6/9/2022
o2si smart solutions | Norandrost-4-ene-3,17-dione Check Standard Solution, 1000 mg/L—NOT FOR SALE | Amber ampule: 1 mL | 6/9/2022
o2si smart solutions | Δ11-tetrahydrocannabinol (Δ11-THC) Check Standard Solution, 1000 mg/L—NOT FOR SALE | Amber ampule: 1 mL | 6/9/2022
o2si smart solutions | Δ9-Tetrahydrocannabinolic Acid A (THCA-A) 1,000 mg/L, 1 mL | Amber ampule: 1 mL | 6/3/2022
Purisys, LLC | Psilocybin in acetonitrile and water 50/50 (1000 µg/mL) | Sealed ampule: 1 mL | 6/20/2022
Purisys, LLC | Psilocybin in methanol (1000 µg/mL) | Sealed ampule: 1 mL | 6/20/2022
Purisys, LLC | Psilocyn in acetonitrile (1000 µg/mL) | Sealed ampule: 1 mL | 6/20/2022
Research Triangle Institute | 000510B, 024684B, 030499B, 042153B, 055989B, 062349B, 083382B, 111897B, 148824B, 155004B, 184804B, 197074B, 311984B, 354224B, 391748B, 435051B, 449027B, 450311B, 547555B, 588785B, 607650B, 629955B, 659866B, 685170B, 690224B, 704404B, 739818B, 755519B, 786768B, 840845B, 850706B, 867191B, 873675B, 881673B, 944697B | HDPE bottles: 35 mL | 8/31/2022
Research Triangle Institute | 000961A, 028507A, 122496A, 124939A, 146011A, 172880A, 199407A, 227676A, 252508A, 261015A, 273618A, 383859A, 401419A, 480710A, 541555A, 562713A, 566101A, 603052A, 634045A, 651890A, 663698A, 682928A, 709182A, 732034A, 751652A, 760159A, 800892A, 804976A, 851909A, 862613A, 866630A, 922818A, 924669A, 942014A, 966208A | HDPE bottles: 35 mL | 8/31/2022
Research Triangle Institute | 001463B, 056161B, 107629B, 111602B, 126970B, 166567B, 175590B, 188240B, 198345B, 223752B, 237183B, 253762B, 255482B, 286257B, 326332B, 360906B, 377257B, 379111B, 404891B, 423558B, 433059B, 455486B, 461435B, 483519B, 502764B, 509234B, 547604B, 602800B, 614378B, 626714B, 631256B, 790344B, 829670B, 879115B, 885801B | HDPE bottles: 35 mL | 8/31/2022
Research Triangle Institute | 001606A, 034021A, 034890A, 065398A, 072182A, 081665A, 117541A, 148317A, 178942A, 190301A, 194056A, 232816A, 241897A, 250131A, 285050A, 359642A, 361879A, 405155A, 405282A, 427024A, 434271A, 446335A, 472385A, 491144A, 499887A, 524408A, 584798A, 668222A, 679493A, 754144A, 772642A, 805653A, 836473A, 962024A, 989289A | HDPE bottles: 35 mL | 8/31/2022
Research Triangle Institute | 001882A, 003386A, 008001A, 036365A, 043476A, 049468A, 093011A, 121668A, 147157A, 159640A, 298865A, 300140A, 331164A, 373683A, 435558A, 458412A, 504018A, 521415A, 552735A, 557896A, 565233A, 597129A, 679583A, 686656A, 730842A, 738661A, 759583A, 762094A, 772188A, 796105A, 846506A, 850914A, 936439A, 953618A, 996794A | HDPE bottles: 35 mL | 8/31/2022
Research Triangle Institute | 001911A, 066956A, 101918A, 126757A, 128548A, 131445A, 145955A, 156293A, 182198A, 200877A, 213964A, 248426A, 282721A, 305999A, 347698A, 351236A, 358446A, 454083A, 474850A, 524878A, 538040A, 632371A, 645527A, 708701A, 753168A, 796829A, 809111A, 888059A, 772188A, 796105A, 846506A, 850914A, 936439A, 953618A, 996794A | HDPE bottles: 35 mL | 8/31/2022
Research Triangle Institute | 003361B, 034629B, 067012B, 124682B, 142773B, 167685B, 183666B, 195477B, 241017B, 271325B, 284980B, 313159B, 324894B, 369085B, 373076B, 402924B, 415700B, 441888B, 463448B, 485113B, 520479B, 527487B, 598224B, 601374B, 615440B, 621902B, 661723B, 676451B, 731610B, 754997B, 784073B, 812149B, 902699B, 928121B, 978887B | HDPE bottle: 35 mL | 8/31/2022
Research Triangle Institute | 003448B, 015003B, 033257B, 051607B, 076795B, 086721B, 140063B, 154580B, 173603B, 217900B, 241527B, 320381B, 339878B, 343712B, 364134B, 376127B, 398329B, 435004B, 443888B, 507663B, 526180B, 557663B, 567632B, 580102B, 596225B, 668846B, 712347B, 726102B, 742402B, 750051B, 776472B, 782223B, 824770B, 932935B, 976562B | HDPE bottles: 35 mL | 8/31/2022
Research Triangle Institute | 004989A, 013012A, 027562A, 044380A, 154098A, 154741A, 185768A, 202000A, 246871A, 265204A, 291552A, 306577A, 378455A, 507424A, 508991A, 524092A, 541563A, 600788A, 631655A, 648882A, 710877A, 746735A, 806986A, 825580A, 834352A, 849961A, 864935A, 889688A, 889828A, 895160A, 935366A, 944847A, 954723A, 986218A, 999914A | HDPE bottles: 35 mL | 8/31/2022
Research Triangle Institute | 005306B, 022155B, 026649B, 026742B, 032480B, 070164B, 077412B, 186051B, 192207B, 192642B, 235537B, 285192B, 287451B, 294932B, 328247B, 350454B, 392066B, 426765B, 438623B, 443893B, 447115B, 483581B, 484403B, 538111B, 558104B, 587578B, 713806B, 760507B, 798731B, 801403B, 851528B, 881775B, 910133B, 912386B, 967955B | HDPE bottles: 35 mL | 8/31/2022
Research Triangle Institute | 005315B, 088737B, 133447B, 134986B, 138498B, 264329B, 301439B, 304873B, 326234B, 330104B, 340076B, 400042B, 419868B, 458556B, 479112B, 489402B, 501455B, 502598B, 507757B, 532466B, 546529B, 552545B, 559012B, 598384B, 635803B, 641543B, 652391B, 658182B, 687555B, 707014B, 820357B, 859660B, 876517B, 898388B, 906900B | HDPE bottles: 35 mL | 8/31/2022
Research Triangle Institute | 005439B, 011930B, 046166B, 197699B, 206789B, 248185B, 283679B, 285363B, 345812B, 374710B, 383701B, 388926B, 407067B, 420238B, 427842B, 440203B, 467272B, 482460B, 515969B, 621243B, 649488B, 651127B, 682891B, 706549B, 710331B, 770838B, 780409B, 831298B, 833173B, 834221B, 909138B, 939345B, 954694B, 963283B, 981590B | HDPE bottles: 35 mL | 8/31/2022
Research Triangle Institute | 005723A, 010224A, 020000A, 033830A, 083801A, 122906A, 159113A, 217773A, 262678A, 270720A, 309089A, 337094A, 411674A, 414070A, 435026A, 440244A, 448082A, 458522A, 472864A, 475153A, 511058A, 559785A, 565367A, 598943A, 634227A, 670003A, 777915A, 783190A, 812998A, 822338A, 855236A, 922444A, 937688A, 938532A, 998637A | HDPE bottles: 35 mL | 8/31/2022
Research Triangle Institute | 006430A, 013459A, 083240A, 119548A, 149300A, 169547A, 192832A, 225510A, 230645A, 264897A, 282867A, 290126A, 294426A, 296462A, 350660A, 381192A, 409139A, 410463A, 420783A, 430841A, 457188A, 459390A, 518144A, 563951A, 586542A, 636622A, 690317A, 730844A, 753255A, 801244A, 819956A, 877290A, 898991A, 995313A, 997081A | HDPE bottles: 35 mL | 8/31/2022
Research Triangle Institute | 006879B, 009972B, 012667B, 054797B, 075328B, 098345B, 134554B, 136667B, 167612B, 179524B, 186471B, 215151B, 235906B, 303492B, 305353B, 331557B, 342325B, 360990B, 364819B, 392707B, 414436B, 468654B, 492622B, 532754B, 544205B, 558235B, 616987B, 684423B, 704968B, 838395B, 896763B, 908346B, 927866B, 956663B, 987434B | HDPE bottles: 35 mL | 8/31/2022
Research Triangle Institute | 006920B, 020354B, 029319B, 031990B, 034822B, 042207B, 048107B, 055863B, 062980B, 180007B, 224273B, 231191B, 251500B, 394695B, 406299B, 412181B, 427366B, 441921B, 455861B, 483103B, 552056B, 556237B, 577736B, 581693B, 609637B, 634703B, 648347B, 650407B, 691524B, 706847B, 712961B, 716064B, 786421B, 886840B, 967471B | HDPE bottles: 35 mL | 8/31/2022
Research Triangle Institute | 007013B, 029665B, 077131B, 084117B, 207707B, 219369B, 226822B, 236412B, 264552B, 305802B, 362467B, 363118B, 378155B, 403329B, 458800B, 462530B, 519443B, 547861B, 549333B, 551294B, 572105B, 587099B, 610886B, 622350B, 705566B, 755270B, 758516B, 788962B, 815469B, 821224B, 880073B, 891005B, 900131B, 916817B, 978949B | HDPE bottles: 35 mL | 8/31/2022
Research Triangle Institute | 007575B, 010564B, 049417B, 056443B, 137748B, 149802B, 162773B, 210356B, 280059B, 319246B, 323927B, 384539B, 425487B, 435554B, 446009B, 508479B, 509725B, 578196B, 605592B, 644051B, 646818B, 647736B, 662660B, 669235B, 732556B, 775167B, 791834B, 852883B, 872952B, 910032B, 913848B, 933061B, 974170B, 979810B, 993544B | HDPE bottles: 35 mL | 8/31/2022
Research Triangle Institute | 007784B, 014508B, 028031B, 080858B, 085996B, 090901B, 095109B, 096064B, 122024B, 141066B, 155489B, 194479B, 212321B, 232486B, 249109B, 261871B, 267804B, 315752B, 343373B, 362472B, 366920B, 394840B, 399190B, 464303B, 487803B, 496956B, 547033B, 571357B, 603262B, 606421B, 754259B, 754685B, 792289B, 797949B, 818628B | HDPE bottles: 35 mL | 8/31/2022
Research Triangle Institute | 007888A, 050795A, 069787A, 086958A, 153683A, 185945A, 209492A, 209693A, 214788A, 220744A, 238399A, 257856A, 263040A, 396891A, 429298A, 443211A, 443690A, 535109A, 536428A, 585115A, 597393A, 601201A, 684287A, 750374A, 755395A, 805610A, 808685A, 810895A, 821892A, 830817A, 844339A, 875325A, 926105A, 958595A, 967906A | HDPE bottles: 35 mL | 8/31/2022
Research Triangle Institute | 007903B, 017985B, 031552B, 043262B, 057633B, 064564B, 089872B, 120384B, 126918B, 128428B, 153228B, 212323B, 286181B, 289422B, 346325B, 419167B, 461622B, 468811B, 501592B, 610538B, 637505B, 750393B, 799587B, 849634B, 865416B, 871040B, 889576B, 917871B, 939706B, 947843B, 961793B, 963374B, 979701B, 994785B, 999253B | HDPE bottles: 35 mL | 8/31/2022
Research Triangle Institute | 008032B, 012738B, 052220B, 088599B, 093064B, 100286B, 139524B, 226299B, 227270B, 270718B, 293463B, 297771B, 309806B, 346141B, 354754B, 367972B, 371775B, 389472B, 446715B, 493432B, 503077B, 506978B, 582788B, 599737B, 606106B, 611349B, 623399B, 649389B, 679139B, 682140B, 689305B, 700957B, 732128B, 889627B, 894309B | HDPE bottles: 35 mL | 8/31/2022
Research Triangle Institute | 008571A, 070024A, 091919A, 100911A, 130398A, 161925A, 199153A, 209306A, 215841A, 232053A, 266979A, 294330A, 330101A, 345673A, 375563A, 391042A, 414927A, 456849A, 460582A, 482918A, 499736A, 549627A, 615819A, 619423A, 662555A, 711237A, 737276A, 747990A, 756855A, 808378A, 896800A, 935486A, 949787A, 975519A, 991426A | HDPE bottles: 35 mL | 8/31/2022
Research Triangle Institute | 008631B, 023083B, 043754B, 066138B, 150229B, 169194B, 227915B, 249863B, 252429B, 286397B, 351990B, 394654B, 440317B, 473473B, 480349B, 504552B, 507791B, 537321B, 539239B, 550242B, 641204B, 672390B, 707658B, 707837B, 721330B, 766960B, 770825B, 837377B, 844329B, 873578B, 873818B, 893460B, 902900B, 911997B, 960424B | HDPE bottles: 35 mL | 8/31/2022
Research Triangle Institute | 009143A, 015996A, 078142A, 095870A, 118345A, 151179A, 156516A, 173169A, 175916A, 190596A, 209203A, 288286A, 288890A, 343180A, 347813A, 363418A, 390678A, 432120A, 450923A, 532426A, 544398A, 554513A, 609044A, 661927A, 671221A, 735308A, 847434A, 851222A, 868823A, 887805A, 904442A, 931295A, 933778A, 938816A, 948526A | HDPE bottles: 35 mL | 8/31/2022
Research Triangle Institute | 009937A, 015923A, 050705A, 081256A, 100964A, 108168A, 120966A, 156469A, 188689A, 207981A, 275894A, 453028A, 471595A, 495221A, 583757A, 589400A, 593145A, 594479A, 598805A, 618975A, 630735A, 661590A, 666175A, 679992A, 680075A, 707077A, 842076A, 850528A, 856251A, 924518A, 945544A, 947282A, 952841A, 959426A, 965994A | HDPE bottles: 35 mL | 8/31/2022
Research Triangle Institute | 010629A, 047551A, 052155A, 059322A, 098927A, 119623A, 166596A, 208267A, 211411A, 215824A, 282424A, 326313A, 391724A, 459832A, 481545A, 486765A, 492565A, 518547A, 521108A, 539049A, 539858A, 569104A, 628205A, 656511A, 661177A, 703220A, 725851A, 754166A, 809419A, 827153A, 845980A, 882001A, 916725A, 919569A, 953658A | HDPE bottles: 35 mL | 8/31/2022
Research Triangle Institute | 011022B, 088221B, 105045B, 121549B, 130874B, 157642B, 158649B, 169871B, 213417B, 358087B, 373967B, 448997B, 489558B, 491060B, 565288B, 570948B, 633973B, 687498B, 692157B, 713022B, 765067B, 766026B, 783453B, 785262B, 798521B, 818224B, 834146B, 864904B, 872245B, 906153B, 910283B, 920860B, 929480B, 954299B, 962249B | HDPE bottles: 35 mL | 8/31/2022
Research Triangle Institute | 011472B, 064251B, 097605B, 102256B, 154958B, 217983B, 346348B, 348548B, 349536B, 353599B, 360643B, 378144B, 499795B, 548635B, 560078B, 596930B, 618715B, 624505B, 625964B, 714902B, 720694B, 722487B, 748403B, 778831B, 787862B, 790376B, 805531B, 841680B, 868008B, 885341B, 887496B, 945796B, 953858B, 980975B, 993436B | HDPE bottles: 35 mL | 8/31/2022
Research Triangle Institute | 012070B, 024242B, 060641B, 063550B, 071377B, 146349B, 151752B, 156824B, 189419B, 208831B, 226714B, 252879B, 276992B, 291169B, 300610B, 312688B, 327866B, 422977B, 470242B, 505775B, 506044B, 538162B, 553340B, 657346B, 684241B, 710820B, 752741B, 754022B, 762641B, 838397B, 862850B, 956213B, 964599B, 983459B, 990186B | HDPE bottles: 35 mL | 8/31/2022
Research Triangle Institute | 012160B, 064255B, 105594B, 131691B, 133975B, 138158B, 150777B, 197643B, 198532B, 205752B, 245023B, 350103B, 402245B, 410628B, 412351B, 542749B, 597477B, 618159B, 644749B, 681352B, 734193B, 741378B, 758790B, 772787B, 798421B, 833693B, 855796B, 898725B, 900549B, 906940B, 920433B, 971632B, 976406B, 983870B, 994874B | HDPE bottles: 35 mL | 8/31/2022
Research Triangle Institute | 012663A, 030406A, 042029A, 134208A, 157170A, 264784A, 321385A, 341864A, 378750A, 380086A, 388894A, 406012A, 406888A, 422664A, 456872A, 476320A, 498092A, 558914A, 559101A, 562610A, 570348A, 584605A, 598903A, 722526A, 765330A, 778488A, 779472A, 804784A, 805500A, 824755A, 826474A, 843906A, 890144A, 897082A, 931671A | HDPE bottles: 35 mL | 8/31/2022
Research Triangle Institute | 013485A, 038008A, 204339A, 222014A, 246406A, 258988A, 312673A, 321839A, 325063A, 351095A, 358770A, 364750A, 371671A, 413772A, 417613A, 464080A, 537087A, 605371A, 649083A, 649576A, 678255A, 683334A, 702885A, 705801A, 707043A, 722131A, 774230A, 784476A, 826652A, 852272A, 874313A, 900419A, 923068A, 962554A, 988074A | HDPE bottles: 35 mL | 8/31/2022
Research Triangle Institute | 014699B, 020401B, 020613B, 053169B, 089884B, 146588B, 200543B, 246367B, 260139B, 279610B, 298949B, 298978B, 311939B, 328885B, 373233B, 384502B, 423300B, 436888B, 449836B, 454497B, 476913B, 499046B, 501566B, 504889B, 552188B, 603046B, 607710B, 607957B, 706859B, 719495B, 724079B, 749773B, 909379B, 914018B, 965309B | HDPE bottles: 35 mL | 8/31/2022
Research Triangle Institute | 015309B, 044514B, 051397B, 088627B, 092768B, 107796B, 146165B, 172789B, 218589B, 220923B, 270176B, 272635B, 288651B, 293091B, 299226B, 311151B, 336085B, 401340B, 407536B, 471010B, 484132B, 591481B, 665201B, 712745B, 724129B, 742624B, 751246B, 784058B, 797003B, 840817B, 844183B, 911916B, 922264B, 941318B, 946767B | HDPE bottles: 35 mL | 8/31/2022
Research Triangle Institute | 018647B, 023471B, 056945B, 083696B, 090207B, 092054B, 201539B, 221710B, 255020B, 275669B, 313125B, 338552B, 344662B, 388016B, 432159B, 458676B, 548727B, 549839B, 604551B, 621961B, 654990B, 709969B, 715388B, 773915B, 812441B, 819380B, 858004B, 900873B, 904709B, 914319B, 914831B, 964677B, 972462B, 976978B, 995400B | HDPE bottles: 35 mL | 8/31/2022
Research Triangle Institute | 018691A, 055478A, 604500A | HDPE bottles: 35 mL | 8/31/2022
Research Triangle Institute | 020578A, 062638A, 076894A, 092798A, 121935A, 149982A, 152068A, 167013A, 182740A, 259167A, 286865A, 300656A, 309666A, 327523A, 337510A, 393272A, 458973A, 558618A, 559226A, 573235A, 650693A, 706588A, 737826A, 774178A, 784852A, 815955A, 826069A, 843176A, 862642A, 923509A, 925038A, 936385A, 944703A, 946375A, 987996A | HDPE bottles: 35 mL | 8/31/2022
Research Triangle Institute | 020790A, 087729A, 169804A, 188603A, 195167A, 280407A, 298143A, 310142A, 316099A, 318433A, 331877A, 335859A, 337630A, 424745A, 426079A, 464249A, 505399A, 521413A, 541231A, 554133A, 583885A, 587931A, 611694A, 629678A, 662790A, 730595A, 751103A, 799215A, 833318A, 851459A, 874446A, 875952A, 901910A, 910805A, 928524A | HDPE bottles: 35 mL | 8/31/2022
Research Triangle Institute | 021986B, 089652B, 095413B, 125576B, 147625B, 150359B, 160019B, 190411B, 220035B, 322940B, 345836B, 387975B, 421367B, 432164B, 440847B, 452863B, 465177B, 499409B, 503793B, 524493B, 558840B, 684189B, 727026B, 735982B, 756767B, 774287B, 791334B, 800210B, 818711B, 837294B, 862724B, 923542B, 928312B, 955505B, 971564B | HDPE bottles: 35 mL | 8/31/2022
Research Triangle Institute | 022169B, 068945B, 090567B, 167785B, 185107B, 203284B, 271309B, 325738B, 332291B, 340408B, 385627B, 436047B, 445940B, 449424B, 450655B, 497983B, 532866B, 541881B, 594288B, 604446B, 616351B, 637504B, 643078B, 654947B, 657707B, 786709B, 805704B, 814864B, 850397B, 855787B, 856184B, 862151B, 910595B, 922997B, 931166B | HDPE bottles: 35 mL | 8/31/2022
Research Triangle Institute | 022808A, 040620A, 076325A, 126699A, 154431A, 166852A, 176123A, 177249A, 195873A, 206199A, 217902A, 277826A, 335915A, 343719A, 413742A, 416084A, 440614A, 461082A, 480207A, 513341A, 520253A, 541777A, 570217A, 589927A, 593068A, 625807A, 655427A, 664591A, 727901A, 826102A, 842842A, 859299A, 860712A, 875286A, 890895A | HDPE bottle: 35 mL | 8/31/2022
Research Triangle Institute | 023290A, 031068A, 074113A, 125447A, 187424A, 191876A, 215541A, 218764A, 231664A, 233679A, 239062A, 247658A, 281440A, 286582A, 298963A, 324752A, 341150A, 355291A, 366501A, 367229A, 448037A, 565607A, 651328A, 703904A, 740505A, 775456A, 817705A, 826423A, 837223A, 862326A, 867355A, 873190A, 905177A, 938382A, 949435A | HDPE bottles: 35 mL | 8/31/2022
Research Triangle Institute | 023669A, 031619A, 033068A, 079396A, 089241A, 114019A, 127318A, 153617A, 164752A, 188783A, 208732A, 228725A, 280814A, 306275A, 315774A, 364769A, 375130A, 391406A, 402501A, 409654A, 441308A, 489991A, 529319A, 638805A, 665202A, 679716A, 688168A, 688947A, 689043A, 751917A, 799531A, 907717A, 921798A, 929437A, 981723A | HDPE bottles: 35 mL | 8/31/2022
Research Triangle Institute | 024208A, 026599A, 050552A, 055715A, 057602A, 061693A, 066803A, 165847A, 192872A, 201680A, 212189A, 235919A, 244067A, 271686A, 311044A, 317801A, 327983A, 335646A, 381122A, 390594A, 454487A, 459917A, 529517A, 531702A, 547037A, 681222A, 698107A, 735125A, 797409A, 801141A, 814996A, 863099A, 887771A, 949911A, 960562A | HDPE bottles: 35 mL | 8/31/2022
Research Triangle Institute | 025789B, 073439B, 096224B, 096731B, 098505B, 121527B, 138481B, 159681B, 171540B, 231326B, 279857B, 366094B, 369006B, 392271B, 444197B, 448387B, 448738B, 518246B, 518249B, 552260B, 568792B, 599485B, 637890B, 672888B, 701961B, 713036B, 728027B, 740826B, 762860B, 788811B, 806492B, 841761B, 878723B, 897052B, 967897B | HDPE bottles: 35 mL | 8/31/2022
Research Triangle Institute | 029192B, 030759B, 053190B, 098716B, 164275B, 194122B, 197887B, 221746B, 266652B, 268923B, 292114B, 296583B, 320003B, 352484B, 411266B, 413436B, 451832B, 504047B, 633370B, 651295B, 657073B, 689117B, 726879B, 738490B, 741740B, 750540B, 751238B, 783304B, 786031B, 854160B, 880410B, 881084B, 899780B, 933166B, 975514B | HDPE bottles: 35 mL | 8/31/2022
Research Triangle Institute | 030100A, 038859A, 076643A, 081857A, 096610A, 109479A, 118605A, 122129A, 171098A, 233006A, 236469A, 269560A, 283775A, 298707A, 339509A, 397286A, 449740A, 470146A, 523424A, 580372A, 606260A, 663693A, 668655A, 715717A, 733825A, 794817A, 849620A, 906542A, 918136A, 923222A, 935484A, 940766A, 942606A, 972416A, 998640A | HDPE bottles: 35 mL | 8/31/2022
Research Triangle Institute | 030168B, 047308B, 055471B, 057851B, 161926B, 187584B, 228108B, 233242B, 264017B, 268345B, 292158B, 310065B, 315305B, 335230B, 339001B, 344914B, 471362B, 531432B, 532353B, 537102B, 568839B, 589324B, 609292B, 619817B, 626109B, 654314B, 656731B, 657222B, 668368B, 670229B, 677870B, 776167B, 838384B, 936812B, 954302B | HDPE bottles: 35 mL | 8/31/2022
Research Triangle Institute | 031574A, 048660A, 058244A, 067070A, 069171A, 120673A, 124908A, 129060A, 158121A, 165678A, 171213A, 220762A, 259406A, 270260A, 277014A, 309203A, 342965A, 391752A, 414592A, 509568A, 535341A, 572938A, 613937A, 626181A, 677419A, 727884A, 750807A, 762397A, 788740A, 839431A, 875915A, 900980A, 913771A, 928278A, 968586A | HDPE bottles: 35 mL | 8/31/2022
Research Triangle Institute | 031805A, 049270A, 073495A, 076585A, 082137A, 112230A, 148246A, 159497A, 171743A, 194546A, 261194A, 266859A, 327479A, 478001A, 484363A, 490578A, 506526A, 535156A, 553278A, 578460A, 585871A, 613233A, 614502A, 680352A, 723957A, 742379A, 772394A, 793765A, 834022A, 927423A, 947657A, 975414A, 982854A, 997154A, 997469A | HDPE bottles: 35 mL | 8/31/2022
Research Triangle Institute | 034910B, 061304B, 073474B, 085271B, 133608B, 211334B, 231923B, 247554B, 258901B, 317496B, 369971B, 383488B, 414173B, 431835B, 476665B, 478289B, 536171B, 540501B, 548940B, 557912B, 581834B, 604729B, 620678B, 654309B, 668617B, 705147B, 705783B, 780132B, 784260B, 799739B, 861730B, 887992B, 904481B, 942456B, 977440B | HDPE bottles: 35 mL | 8/31/2022
Research Triangle Institute | 037202A, 049224A, 119956A, 134374A, 139634A, 195451A, 206227A, 217960A, 236143A, 251827A, 304527A, 321851A, 383372A, 406374A, 422462A, 438217A, 452445A, 481511A, 514272A, 545360A, 548820A, 551678A, 554033A, 695357A, 733332A, 750845A, 756803A, 769869A, 783829A, 812540A, 853617A, 866255A, 910455A, 931519A, 946778A | HDPE bottles: 35 mL | 8/31/2022
Research Triangle Institute | 038532A, 044611A, 051823A, 065305A, 082543A, 092115A, 195471A, 251121A, 277803A, 279833A, 297529A, 304245A, 382835A, 386666A, 452482A, 476224A, 488416A, 495710A, 513383A, 560784A, 562958A, 616576A, 716262A, 747861A, 754363A, 763902A, 815364A, 820383A, 831011A, 891513A, 919496A, 946631A, 984297A, 991120A, 994081A | HDPE bottles: 35 mL | 8/31/2022
Research Triangle Institute | 039859A, 045183A, 063346A, 085444A, 109043A, 153572A, 189632A, 198485A, 216345A, 251012A, 266129A, 380638A, 382717A, 396944A, 438554A, 439165A, 458813A, 471756A, 478399A, 615334A, 684905A, 691893A, 700140A, 726882A, 743741A, 764757A, 767828A, 779222A, 829417A, 852304A, 862236A, 877450A, 885149A, 944896A, 973575A | HDPE bottles: 35 mL | 8/31/2022
Research Triangle Institute | 041872A, 056764A, 103839A, 109733A, 129246A, 154352A, 179503A, 275386A, 426832A, 453054A, 460826A, 479764A, 525289A, 542471A, 547586A, 588443A, 591582A, 598385A, 653451A, 664576A, 675492A, 703662A, 718768A, 737248A, 764156A, 800711A, 859606A, 898221A, 904213A, 909808A, 925276A, 939247A, 950899A, 976241A, 997527A | HDPE bottles: 35 mL | 8/31/2022
Research Triangle Institute | 041917A, 078334A, 100984A, 145475A, 160522A, 168453A, 207321A, 211817A, 223620A, 262525A, 362588A, 368391A, 376607A, 453519A, 479849A, 481588A, 518913A, 526818A, 541292A, 550724A, 623049A, 625966A, 639050A, 648379A, 693860A, 705300A, 711941A, 874547A, 886132A, 909156A, 913167A, 926604A, 926997A, 930695A, 947845A | HDPE bottles: 35 mL | 8/31/2022
Research Triangle Institute | 042787A, 047665A, 072558A, 152698A, 206053A, 217476A, 230479A, 231452A, 260872A, 275700A, 348049A, 355507A, 369271A, 371699A, 402827A, 414113A, 441834A, 456017A, 497453A, 503329A, 523764A, 528528A, 552441A, 618509A, 686925A, 714761A, 738363A, 773615A, 802335A, 805271A, 856731A, 870103A, 916098A, 920231A, 946267A | HDPE bottles: 35 mL | 8/31/2022
Research Triangle Institute | 043469A, 062002A, 069496A, 093297A, 106890A, 108389A, 124644A, 137999A, 244865A, 245125A, 288902A, 340364A, 356185A, 419624A, 440916A, 445884A, 470956A, 482716A, 508349A, 509943A, 516790A, 552981A, 562084A, 563336A, 596809A, 600392A, 718165A, 779540A, 780607A, 793669A, 848761A, 853984A, 889128A, 976687A, 987007A | HDPE bottles: 35 mL | 8/31/2022
Research Triangle Institute | 045424A, 184418A, 519509A | HDPE bottles: 35 mL | 8/31/2022
Research Triangle Institute | 045897A, 053505A, 100424A, 106803A, 159580A, 165781A, 174535A, 209438A, 242595A, 280915A, 290380A, 292908A, 352817A, 388196A, 398498A, 400221A, 406528A, 408141A, 571660A, 636669A, 650109A, 655893A, 668772A, 669064A, 769651A, 777624A, 783316A, 879796A, 886745A, 894330A, 897075A, 912061A, 925007A, 950873A, 975835A | HDPE bottles: 35 mL | 8/31/2022
Research Triangle Institute | 047134A, 095085A, 100690A, 121363A, 130780A, 169345A, 231162A, 247213A, 302166A, 306907A, 392897A, 395029A, 453710A, 477306A, 486339A, 495254A, 498295A, 513243A, 514150A, 562429A, 597567A, 661472A, 663838A, 713448A, 729152A, 802007A, 806836A, 843119A, 849799A, 870488A, 871674A, 874589A, 891306A, 953505A, 982050A | HDPE bottles: 35 mL | 8/31/2022
Research Triangle Institute | 049722A, 311172A, 488938A | HDPE bottles: 35 mL | 8/31/2022
Research Triangle Institute | 050449A, 056574A, 064867A, 085858A, 087554A, 109292A, 210320A, 242288A, 265348A, 267357A, 311545A, 337844A, 342413A, 422199A, 430175A, 438690A, 467661A, 470007A, 472809A, 542622A, 599361A, 607843A, 629755A, 685557A, 714806A, 737431A, 772880A, 778552A, 781175A, 791007A, 803776A, 896581A, 908951A, 921493A, 946300A | HDPE bottles: 35 mL | 8/31/2022
Research Triangle Institute | 051784B, 127779B, 130397B, 138691B, 216489B, 238036B, 269103B, 285114B, 317648B, 319324B, 355361B, 361686B, 402519B, 404383B, 416563B, 421126B, 443282B, 452020B, 475416B, 546525B, 585380B, 614778B, 628584B, 649786B, 650558B, 656200B, 696700B, 703199B, 715597B, 784614B, 796384B, 840326B, 883052B, 977920B, 996486B | HDPE bottles: 35 mL | 8/31/2022
Research Triangle Institute | 054792B, 056573B, 063797B, 071680B, 095599B, 148124B, 182354B, 233578B, 244315B, 252467B, 294004B, 308054B, 354927B, 425418B, 471292B, 486641B, 495270B, 497273B, 510744B, 512040B, 582929B, 624606B, 684268B, 684534B, 686981B, 723080B, 758986B, 759613B, 781835B, 867179B, 905367B, 926198B, 948410B, 950726B, 985929B | HDPE bottles: 35 mL | 8/31/2022
Research Triangle Institute | 057321B, 101475B, 168714B, 183117B, 183683B, 201419B, 201954B, 225019B, 334046B, 385552B, 433118B, 495579B, 528075B, 541791B, 588992B, 610992B, 650979B, 676140B, 676599B, 694912B, 715448B, 739506B, 745221B, 766468B, 769268B, 769555B, 775780B, 827742B, 845598B, 879975B, 886145B, 887195B, 908268B, 923406B, 939968B | HDPE bottles: 35 mL | 8/31/2022
Research Triangle Institute | 057932B, 085895B, 093192B, 110619B, 111563B, 113976B, 274062B, 291204B, 293274B, 305051B, 339589B, 346040B, 366415B, 376721B, 379592B, 381524B, 392562B, 408614B, 408798B, 421727B, 457066B, 496976B, 501959B, 526462B, 534071B, 561642B, 595349B, 596036B, 696912B, 698706B, 789423B, 891267B, 911936B, 981309B, 996068B | HDPE bottles: 35 mL | 8/31/2022
Research Triangle Institute | 057998A, 078191A, 088123A, 089209A, 113682A, 131667A, 132381A, 216930A, 231123A, 233602A, 245262A, 252938A, 320764A, 365348A, 373904A, 416797A, 417256A, 432533A, 465179A, 517264A, 585543A, 639314A, 730233A, 735279A, 753946A, 781743A, 782286A, 788641A, 807862A, 809648A, 842572A, 892415A, 914558A, 926795A, 965716A | HDPE bottles: 35 mL | 8/31/2022
Research Triangle Institute | 060346A, 152550A, 158644A, 177612A, 179433A, 205591A, 243762A, 251230A, 291059A, 349865A, 367163A, 373327A, 588588A, 595808A, 597291A, 599248A, 603697A, 643932A, 654943A, 670850A, 688542A, 712369A, 755953A, 763946A, 784664A, 799362A, 806657A, 809349A, 849376A, 886748A, 899325A, 914294A, 945762A, 983101A, 997274A | HDPE bottles: 35 mL | 8/31/2022
Research Triangle Institute | 060903A, 066052A, 114124A, 117983A, 120937A, 176850A, 178740A, 205941A, 288053A, 332252A, 344224A, 360708A, 374198A, 422400A, 425437A, 433881A, 435267A, 441171A, 469798A, 490186A, 582615A, 588726A, 603400A, 614110A, 636301A, 647368A, 670612A, 712447A, 720119A, 750062A, 816568A, 825835A, 902046A, 926199A, 997658A | HDPE bottles: 35 mL | 8/31/2022
Research Triangle Institute | 063770B, 096634B, 177319B, 206691B, 239220B, 283761B, 295759B, 301477B, 342504B, 349019B, 352604B, 422688B, 423260B, 445947B, 450784B, 454576B, 516630B, 530995B, 569440B, 574917B, 601281B, 614108B, 648679B, 766211B, 772362B, 833299B, 846264B, 863815B, 874549B, 879911B, 947492B, 952623B, 979839B, 984586B, 987631B | HDPE bottles: 35 mL | 8/31/2022
Research Triangle Institute | 079738A, 096466A, 128309A, 142384A, 275960A, 292102A, 353862A, 382503A, 390449A, 394258A, 424520A, 437027A, 457166A, 462418A, 471533A, 501015A, 525775A, 528555A, 538347A, 556974A, 580809A, 641272A, 654382A, 665324A, 668923A, 721325A, 773903A, 779801A, 791095A, 792980A, 798843A, 811620A, 829479A, 901040A, 930728A | HDPE bottles: 35 mL | 8/31/2022
Research Triangle Institute | 086387A, 091812A, 101377A, 135549A, 139005A, 174049A, 223716A, 240158A, 258738A, 262371A, 294375A, 336242A, 350542A, 360847A, 414209A, 474147A, 492327A, 495976A, 532911A, 569799A, 577298A, 595539A, 694617A, 714797A, 756271A, 816279A, 834696A, 843823A, 857589A, 874025A, 900079A, 917428A, 933361A, 959976A, 961602A | HDPE bottles: 35 mL | 8/31/2022
Research Triangle Institute | 092668A, 547625A, 648748A | HDPE bottles: 35 mL | 8/31/2022
Research Triangle Institute | 096635A, 758482A, 887095A | HDPE bottles: 35 mL | 8/31/2022
Research Triangle Institute | 097620B, 126231B, 130645B, 140942B, 183863B, 211639B, 227565B, 296152B, 315862B, 397670B, 401339B, 413701B, 421646B, 441994B, 470019B, 495907B, 519876B, 571274B, 591979B, 603808B, 640006B, 707710B, 732958B, 754367B, 761483B, 798235B, 847702B, 850137B, 867981B, 886437B, 909518B, 934713B, 950118B, 951285B, 972965B | HDPE bottle: 35 mL | 8/31/2022
Research Triangle Institute | 101562B, 166440B, 180129B, 189270B, 192127B, 207800B, 219602B, 261013B, 306066B, 313000B, 338628B, 347605B, 355708B, 378507B, 417902B, 496349B, 510899B, 554520B, 621404B, 649518B, 667397B, 669450B, 683639B, 691723B, 833683B, 847988B, 849629B, 868176B, 876062B, 907224B, 911561B, 953896B, 964173B, 965464B, 988120B | HDPE bottles: 35 mL | 8/31/2022
Research Triangle Institute | 107834A, 143875A, 172166A | HDPE bottles: 35 mL | 8/31/2022
Research Triangle Institute | 126688A, 237853A, 846903A | HDPE bottles: 35 mL | 8/31/2022
Research Triangle Institute | 133028A, 339095A, 479015A | HDPE bottles: 35 mL | 8/31/2022
Research Triangle Institute | 188942A, 217551A, 900195A | HDPE bottles: 35 mL | 8/31/2022
Research Triangle Institute | 262153A, 477682A, 521760A | HDPE bottles: 35 mL | 8/31/2022
Research Triangle Institute | 392034A, 523827A, 887757A | HDPE bottles: 35 mL | 8/31/2022
Research Triangle Institute | 501410A, 716724A, 852982A | HDPE bottles: 35 mL | 8/31/2022
RTI International | EQAP Round: RTI-#22-2 Matrix: Plasma #2 Date: 10/18/2022 Sample P2 | HDPE bottles: 60 mL | 6/30/2022
RTI International | EQAP Round: RTI-#22-2 Matrix: Plasma #2 Date: 10/18/2022 Sample P3 | HDPE bottles: 60 mL | 6/30/2022
RTI International | EQAP Round: RTI-#22-2 Matrix: Plasma #2 Date: 10/18/2022 Sample U2 | HDPE bottles: 60 mL | 6/30/2022
RTI International | EQAP Round: RTI-#22-2 Matrix: Plasma #2 Date: 10/18/2022 Sample U3 | HDPE bottles: 60 mL | 6/30/2022
RTI International | EQAP Round: RTI-#22-2 Matrix: Plasma #2 Date: 10/18/2022 Sample U4 | HDPE bottles: 60 mL | 6/30/2022
RTI International | EQAP Round: RTI-#22-2 Matrix: Urine #1 Date: 10/18/2022 Sample U1 | HDPE bottles: 60 mL | 6/30/2022
RTI International | Sample 10 Matrix: Urine | HDPE tubes: 5 mL | 6/13/2022
RTI International | Sample 11 Matrix: Urine | HDPE tubes: 5 mL | 6/13/2022
RTI International | Sample 7 Matrix: Urine | HDPE tubes: 5 mL | 6/13/2022
RTI International | Sample 8 Matrix: Urine | HDPE tubes: 5 mL | 6/13/2022
RTI International | Sample 9 Matrix: Urine | HDPE tubes: 5 mL | 6/13/2022
U.S. Pharmacopeial Convention Inc | Delta-9-Tetrahydrocannabinol 1 mL (1 mg/mL) | Glass ampule: 1 mL | 7/19/2022
U.S. Pharmacopeial Convention Inc | Methylphenidate Hydrochloride Erythro Isomer Solution 0.5 mL | Amber ampule: 2 mL (sealed) | 4/20/2022
WSHL | (WSHL) Chem/Endo/TDM | Amber vial: 5 mL | 8/25/2022
WSHL | (WSHL) Chemistry-Waived | Amber vial: 5 mL | 8/25/2022

The Assistant Administrator has found that each of the compounds, mixtures, and preparations described in Chart II, below, is not consistent with the criteria stated in 21 U.S.C. 811(g)(3)(B) and in 21 CFR 1308.23. Accordingly, the Assistant Administrator has determined that the chemical preparations or mixtures generally described in Chart II, below, and specifically described in the application materials received by DEA, are not exempt from application of any part of the CSA or from application of any part of the CFR, with regard to the requested exemption pursuant to 21 CFR 1308.23, as of the date that was provided in the determination letters to the individual requesters.

Chart II
Supplier | Product name | Form | Application date
Absolute Standards, Inc | Florida Total THC—Performance Test HPLC, 10-1000 ug/mL, in Acetonitrile | Glass ampoule: 1 mL | 6/23/2022
Absolute Standards, Inc | Florida Total THC—PT HPLC in Hemp Oil, 10-1000 ug/g, in Hemp Oil:Acetone:Acetonitrile (5:4:1) | Glass ampoule: 1 mL (~1 g) | 6/23/2022
Cayman Chemical Company | LAMPA (exempt preparation) 100 µg/ml in Acetonitrile | Glass ampule: 1.0 mL | 5/9/2022
Cayman Chemical Company | LSD (L-hemitartrate) (exempt preparation) 100 µg/ml in Methanol | Glass ampule: 1.0 mL | 5/9/2022
Cayman Chemical Company | MiPLA (exempt preparation) 100 µg/ml in Acetonitrile | Glass ampule: 1.0 mL | 5/9/2022
LGC—Dr. Ehrenstorfer | Δ9-Tetrahydrocannabivarin 5,000 mg/L Parent stock in Methanol-PARENT STOCK SOLUTION—NOT FOR SALE | Amber round bottom: 10 mL | 6/3/2022
LGC—Dr. Ehrenstorfer | Δ9-Tetrahydrocannabivarinic acid (THCVA) 5000 ug/mL in Acetonitrile Parent stock NOT FOR SALE | Amber round bottom: 10 mL | 6/3/2022
o2si smart solutions | Custom Pesticide Mix, 8-6843, 5,000 mg/L, 1 ml | Amber Ampule: 1 mL | 6/10/2022
o2si smart solutions | Delta-8-THC Parent Solution, 5,000 mg/L, 10 ml—NOT FOR SALE | Amber round bottom: 10 mL | 6/9/2022
o2si smart solutions | Delta-9-THC Parent Solution, 5,000 mg/L, 10 ml—PARENT | Amber round bottom: 10 mL | 6/3/2022
o2si smart solutions | Δ9-Tetrahydrocannabinolic Acid A (THCA-A) 5,000 mg/L, 10 ml-PARENT STOCK SOLUTION—NOT FOR SALE | Amber round bottom: 10 mL | 6/3/2022

Opportunity for Comment

Pursuant to 21 CFR 1308.23(e), any interested person may submit written comments on or objections to any chemical preparation in this order that has been approved or denied as exempt. If any comments or objections raise significant issues regarding any finding of fact or conclusion of law upon which this order is based, the Assistant Administrator will immediately suspend the effectiveness of any applicable part of this order until she may reconsider the application in light of the comments and objections filed. Thereafter, the Assistant Administrator shall reinstate, revoke, or amend his original order as she determines appropriate.

Approved Exempt Chemical Preparations Are Posted on the DEA's Website

A list of all current exemptions, including those listed in this order, is available on the DEA's website at http://www.DEAdiversion.usdoj.gov/schedules/exempt/exempt_chemlist.pdf. The dates of applications of all current exemptions are posted for easy reference.

Thomas Prevoznik,
Acting Assistant Administrator.

[FR Doc. 2023-10711 Filed 5-19-23; 8:45 am]

BILLING CODE 4410-09-P